DEPARTMENT OF THE INTERIOR

Bureau of Indian Affairs

[212A2100DD/AAKC001030/A0A501010.999900 253G]

Indian Child Welfare Act; Designated Tribal Agents for Service of Notice

AGENCY: Bureau of Indians Affairs, Interior.

ACTION: Notice.

SUMMARY: The regulations implementing the Indian Child Welfare Act provide that Federally recognized Indian Tribes may designate an agent other than the Tribal Chairman for service of notice of proceedings under the Act. This notice includes the current list of designated Tribal agents for service of notice.

FOR FURTHER INFORMATION CONTACT: Bureau of Indian Affairs, Evangeline M. Campbell, Chief, Division of Human Services, Office of Indian Services, 1849 C Street NW, Mail Stop 3641-MIB, Washington, DC 20240; Phone: (202) 513-7621; Email: Evangeline.campbell@bia.gov.

SUPPLEMENTARY INFORMATION: The regulations implementing the Indian Child Welfare Act, 25 U.S.C. 1901 et seq., provide that Federally recognized Tribes may designate an agent other than the Tribal Chairman for service of notice of proceedings under the Act. See 25 CFR 23.12. The Secretary of the Interior is required to update and publish in the Federal Register as necessary the names and addresses of the designated Tribal agents. This notice is published in exercise of authority de-legated by the Secretary of the Interior to the Assistant Secretary—Indian Affairs by 209 DM 8.

In any involuntary proceeding in a State court where the court knows or has reason to know that an Indian child is involved, and where the identity and location of the child's parent or Indian custodian or Tribe is known, the party seeking the foster-care placement of, or termination of parental rights to, an Indian child must directly notify the parents, the Indian custodians, and the child's Tribe by registered or certified mail with return receipt requested, of the pending child-custody proceedings and their right of intervention. Copies of these notices must be sent to the appropriate Bureau of Indian Affairs (BIA) Regional Director by registered or certified mail with return receipt requested or by personal delivery. See 25 CFR 23.11. No notices are requir-ed to be sent to the Secretary's office or the BIA Central Office, except for final adoption de-crees. Final adoption decrees are required to be sent to the BIA Central Office in Washington, DC.

If the identity or location of the child's parents, the child's Indian custodian, or the Federally Recognized Tribe(s) in which the Indian child is a member or eligible for membership cannot be ascertained, but there is reason to know the child is an Indian child, notice of the child-custody proceeding must be sent to the appropriate BIA Regional Director (see www.bia.gov). See 25 CFR 23.111.

This notice presents, the names and addresses of current designated Tribal agents for service of notice, and includes each designated Tribal agent received by the Secretary of the Interior prior to the date of this publication. Part A, published in this notice, lists designated Tribal agents by BIA Region and alphabetically by Tribe within each of the 12 BIA Regions. Part A is also available electronically at: https://www.bia.gov/bia/ois.

In between the BIA's annual Federal Register publication the ICWA Designated Agent List, it will also be available on the IndianAffairs.gov website, the link is: https://www.bia.gov/bia/ois/dhs/icwa.

ICWA Designated agents will be updated every three months on the website link to assist the public.

A. List of Designated Tribal Agents by BIA Region

1. Alaska Region

2. Eastern Region

3. Eastern Oklahoma Region

4. Great Plains Region

5. Midwest Region

6. Navajo Region

7. Northwest Region

8. Pacific Region

9. Rocky Mountain Region

10. Southern Plains Region

11. Southwest Region

12. Western Region

A. List of Designated Tribal Agents by BIA Region

1. Alaska Region

Alaska Regional Director, Bureau of Indian Affairs, Human Services, 3601 C Street, Suite #1200 MC-403, Anchorage, Alaska 99503; Phone: (907) 271-4111; Fax: 907 271-4083.

Tribe | ICWA POC | Mailing address | Telephone No. | Fax No.
Agdaagux Tribe of King Cove | Amanda McAdoo, Family Services Coordinator, amandam@apiai.org | Aleutian Pribilof Islands Association Inc., 1131 East International Airport Road, Anchorage, AK 99518 | (907) 276-2700 | (907) 222-9735
Akiachak Native Community | Sharon Lindley, ICWA Manager, icwa2@avcp.org | Association of Village Council Presidents, P.O. Box 218, Bethel, AK 99559 | (907) 543-8691 | (907) 543-7644
Akiak Native Community | Olinka Jones, ICWA Director | P.O. Box 52127, Akiak, AK 99552 | (907) 765-7112 | (907) 765-7512
Alatna Village | Miriam A. Titus, Child Protection Program Manager, akiakicwadept@gmail.com | Tanana Chiefs Conference, 122 First Avenue, Ste 600, Fairbanks, AK 99701 | (907) 452-8251 | (907) 459-3984
Algaaciq Native Village (St. Mary's) | Sven Paulkan, Tribal Administrator, Spaukan187@gmail.com | P.O. Box 48, St. Mary's, AK 99658 | (907) 438-2932 | (907) 438-2227
Allakaket Village | Miriam A. Titus, Child Protection Program Manager, miriam.titus@tananachiefs.org | Tanana Chiefs Conference, 122 First Avenue, Ste 600, Fairbanks, AK 99701 | (907) 452-8251 | (907) 459-3984
Alutiiq Tribe of Old Harbor | Alyssa Brenteson, ICWA Worker, abrenteson@alutiiqtribe.org | P.O. Box 62, Old Harbor, AK 99643 | (907) 286-2215 | (907) 286-2350
Angoon Community Association | Marlene Zuboff, ICWA Worker, mzuboff.agntribe10@gmail.com | P.O. Box 328, Angoon, AK 99820 | (907) 788-3411 | (907) 788-3412
Anvik Village | Miriam A. Titus, Child Protection Program Manager, miriam.titus@tananachiefs.org | Tanana Chiefs Conference, 122 First Avenue, Ste 600, Fairbanks, AK 99701 | (907) 452-8251 | (907) 459-3984
Arctic Village | Margorie Gemmill, Tribal Administrator, Margoriegemmillava@gmail.com | P.O. Box 22069, Arctic Village, AK 99722 | (907) 587-5523 | (907) 587-5128
Asa'carsarmiut Tribe | Darlene Peterson, Director of Social Services & Education I/II, atcicwa@gic.net | P.O. Box 32107, Mountain Village, AK 99632 | (907) 591-2428 | (907) 591-2934
Native Village of Atqasuk | Joshua Stein, Director of Social Services, Joshua.stein@arcticslope.org | Arctic Slope Native Association, P.O. Box 2153, Utqiagvik, AK 99723 | (907) 852-9374 | (907) 852-2761
Beaver Village | Miriam A. Titus, Child Protection Program Manager, miriam.titus@tananachiefs.org | Tanana Chiefs Conference, 122 First Avenue, Ste 600, Fairbanks, AK 99701 | (907) 452-8251 | (907) 459-3984
Birch Creek Tribe | Miriam A. Titus, Child Protection Program Manager, miriam.titus@tananachiefs.org | Tanana Chiefs Conference, 122 First Avenue, Ste 600, Fairbanks, AK 99701 | (907) 452-8251 | (907) 459-3984
Central Council of the Tlingit & Haida Indian Tribes | Barbara Dude, Family Services Administrator, icwamail@ccthita-nsn.gov | 320 West Willoughby Avenue, Ste #300, Juneau, AK 99801 | (907) 463-7169 | (907) 885-0032
Chalkyitsik Village | Miriam A. Titus, Child Protection Program Manager, Miriam.titus@tanachiefs.org | Tanana Chiefs Conference, 122 First Avenue, Ste 600 , Fairbanks, AK 99701 | (907) 452-8251 | (907) 459-3984
Cheesh-Na Tribe | Agnes Denny, Tribal Administrator, agnesadenny@gmail.com | HC01 Box 217, Gakona, AK 99586 | (907) 822-3503 | (907) 822-5179
Chevak Native Village | Sharon Lindley, ICWA Manager, icwa2@avcp.org | Association of Village Council Presidents, P.O. Box 218, Bethel, AK 99559 | (907) 543-8691 | (907) 543-7644
Chickaloon Native Village | Corrina Atkinson, Health, Education, & Social Services Director/ICWA Program Manager, caatkins@chickaloon-nsn.gov | P.O. Box 1105, Cicchickaloon, AK 99674 | (907) 745-0794 | (907) 745-0704
Chignik Bay Tribal Council | Lou Johnson, Children's Services Division Manager, ljohnson@bbna.com | Bristol Bay Native Association, P.O. Box 310, Dillingham, AK 99576 | (907) 842-4139 | (907) 842-4106
Chignik Lake Village | Lou Johnson, Children's Services Division Manager, ljohnson@bbna.com | Bristol Bay Native Association, P.O. Box 310, Dillingham, AK 99576 | (907) 842-4139 | (907) 842-4106
Chilkat Indian Village (Klukwan) | Carrie-Ann Durr, ICWA Case Worker, edurr@chilkat-nsn.gov | HC 60 Box 2207, Haines, AK 99827 | (907) 767-5505 | (907) 767-5408
Chilkoot Indian Association (Haines) | Barbara Dude, Family Services Administrator, icwamail@ccthita-nsn.gov | Central Council of the Tlingit and Haida Indian Tribes, 320 West Willoughby Ave., Ste 300, Juneau, AK 99801 | (907) 463-7169 | (907) 885-0032
Chinik Eskimo Community (Golovin) | Heather Payenna, CFS Manager, hpayenna@kawerak.org | Kawerak Inc. Children & Family Services, P.O. Box 948, Nome, AK 99762 | (907) 443-4261 | (907) 443-4601
Chuloonawick Native Village | Sharon Lindley, ICWA Manager, SLindley@avep.org | P.O. Box 218, Bethel, AK 99559 | (907) 543-8691 | (907) 543-7644
Circle Native Community | Miriam A. Titus, Child Protection Program Manager, Miriam.titus@tananchiefs.org | Tanana Chiefs Conference, 122 First Avenue, Ste 600, Fairbanks, AK 99701 | (907) 452-8251 | (907) 459-3984
Craig Tribal Association | Barbara Dude, Family Services Administrator, icwamail@ccthita-nsn.gov | Central Council of the Tlingit and Haida Indian Tribes, 320 West Willoughby Ave., Ste 300, Juneau, AK 99801 | (907) 463-7169 | (907) 885-0032
Curyung Tribal Council | Lou Johnson, Children's Services Division Manager, ljohnson@bbna.com | Bristol Bay Native Association, P.O. Box 310, Dillingham, AK 99576 | (907) 842-4139 | (907) 842-4106
Douglas Indian Association | Alyssa Cadiente-Laiti Blattner, Family Case Worker, ablattner@diataku.com | 811 W 12th Street, Juneau, AK 99801 | (907) 364-2916 | (907) 364-2917
Egegik Village | Lou Johnson, Children's Services Division Manager, ljohnson@bbna.com | Bristol Bay Native Association, P.O. Box 310, Dillingham, AK 99576 | (907) 842-4139 | (907) 842-4106
Eklutna Native Village | Dawn Harris, ICWA Worker, dharris@eklutna.org | P.O. Box 670666, Chugiak, AK 99567 | (907) 688-6020 | (907) 688-6021
Emmonak Village | Sharon Lindley, ICWA Manager, icwa2@avcp.org | Association of Village Council Presidents, P.O. Box 218, Bethel, AK 99559 | (907) 543-8691 | (907) 543-7644
Evansville Village (aka Bettles Field) | Miriam A. Titus, Child Protection Manager, miriam.titus@tananachiefs.org | Tanana Chiefs Conference, 122 First Avenue, Ste 600, Fairbanks, AK 99701 | (907) 452-8251 | (907) 459-3984
Galena Village (aka Louden Village) | Susie Sam, Tribal Administrator, susiej.sam@loudentribe.com | P.O. Box 244, Galena, AK 99741 | (907) 656-1711 | (907) 656-2491
Gulkana Village Council | Rachel Stratton Morse, ICWA Worker, icwa@gulkanacouncil.org | P.O. Box 254, Gakona, AK 99586 | (907) 822-5363 | (907) 822-3976
Healy Lake Village | Miriam A. Titus, Child Protection Manager, miriam.titus@tananachiefs.org | Tanana Chiefs Conference, 122 First Avenue, Ste 600, Fairbanks, AK 99701 | (907) 452-8251 | (907) 459-3984
Holy Cross Tribe | Miriam A. Titus, Child Protection Program Manager, miriam.titus@tananachiefs.org | Tanana Chiefs Conference, 122 First Avenue, Ste 600, Fairbanks, AK 99701 | (907) 452-8251 | (907) 459-3984
Hoonah Indian Association | Akasha Moulton, Human Development Division Director, Akasha.Moulton@hiatribe.org | P.O. Box 602, Hoonah, AK 99829 | (907) 945-3545 | (907) 945-3703
Hughes Village | Miriam A. Titus, Child Protection Program Manager, miriam.titus@tananachiefs.org | Tanana Chiefs Conference, 122 First Avenue, Ste 600, Fairbanks, AK 99701 | (907) 452-8251 | (907) 459-3984
Huslia Village | Miriam A. Titus, Child Protection Program Manager, miriam.titus@tananachiefs.org | Tanana Chiefs Conference, 122 First Avenue, Ste 600, Fairbanks, AK 99701 | (907) 452-8251 | (907) 459-3984
Hydaburg Cooperative Association | Margaret Peele, Human Services Director, human.services.hca@gmail.com | P.O. Box 349, Hydaburg, AK 99922 | (907) 285-3666 | (907) 285-3541
Igiugig Village | Alicia Tinney, ICWA Worker, alicia.s.zackar@gmail.com | P.O. Box 4008, Igiugig, AK 99613 | (907) 533-3211 | (907) 533-3217
Inupiat Community of the Arctic Slope | Marie H. Ahsoak, Social Services Director, social@inupiatgov.com | P.O. Box 934, Barrow, AK 99723 | (907) 852-5923 | (907) 852-5924
Iqugmiut Traditional Council | Sharon Lindley, ICWA Manager, icwa2@avcp.org | Association of Village Council Presidents, P.O. Box 218, Bethel, AK 99559 | (907) 543-8691 | (907) 543-7644
Ivanof Bay Tribe | Lou Johnson, Children's Services Division Manager, ljohnson@bbna.com | Bristol Bay Native Association, P.O. Box 310, Dillingham, AK 99576 | (907) 842-4139 | (907) 842-4106
Kaguyak Village | Alyssa Brenteson, Tribal Manager, kaguyak.tribal.council@gmail.com | P.O. Box 5078, Akhiok, AK 99615 | (907) 836-2231 | —
Kaktovik Village (aka Barter Island) | Joshua Stein, Director of Social Services, joshua.stein@arcticslope.org | Arctic Slope Native Association, P.O. Box 2153, Barrow, AK 99723 | (907) 852-9374 | (907) 852-2761
Kasigluk Traditional Elders Council | Lena Keene, ICWA Worker, kasigluktribalicwa@gmail.com | P.O. Box 19, Kasigluk, AK 99609 | (907) 477-6418 | (907) 477-6412
Kenaitze Indian Tribe | Maria Guerra, Family and Social Services Director, familyservicesdepartment@kenaitze.org | P.O. Box 988, Kenai, AK 99611 | (907) 335-7628 | (907) 202-8359
Ketchikan Indian Community | Douglas J. Gass, Case Management Supervisor, dgass@kictribe.org | 2960 Tongass Avenue, Ketchikan, AK 99901 | (907) 228-9324 | (800) 378-0469
King Island Native Community | Heather Payenna, CFS Manager, hpayenna@kawerak.org | Kawerak Inc. Children & Family Services, P.O. Box 948, Nome, AK 99762 | (907) 443-4261 | (907) 443-4601
King Salmon Tribe | Lou Johnson, Children's Services Division Manager, ljohnson@bbna.com | Bristol Bay Native Association, P.O. Box 310, Dillingham, AK 99576 | (907) 842-4139 | (907) 842-4106
Klawock Cooperative Association | Barbara Dude, Family Services Administrator, icwamail@ccthita.nsn.gov | Central Council of the Tlingit and Haida Indian Tribes, 320 West Willoughby Ave, Ste 300, Juneau, AK 99801 | (907) 463-7163 | (907) 885-0032
Knik Tribe | Geraldine Nicoli-Ayonayon, ICWA Manager, gnayonayon@kniktribe.org | P.O. Box 871565, Wasilla, AK 99687 | (907) 373-7938 | (907) 373-2153
Kokhanok Village | Mary Andrew, ICWA Worker, kokhanokicwa@gmail.com | P.O. Box 1007, Kokhanok, AK 99606 | (907) 282-2224 | (907) 282-2221
Koyukuk Native Village | Miriam A. Titus, Child Protection Program Manager, Miriam.titus@tananchiefs.org | Tanana Chiefs Conference, 122 First Avenue, Ste 600, Fairbanks, AK 99701 | (907) 452-8251 | (907) 459-3984
Levelock Village | Lou Johnson, Children's Services Division Manager, ljohnson@bbna.org | Bristol Bay Native Association, P.O. Box 310, Dillingham, AK 99576 | (907) 842-4139 | (907) 842-4106
Lime Village | Sharon Lindley, ICWA Manager, Icwa2@avcp.org | Association of Village Council Presidents, P.O. Box 218, Bethel, AK 99559 | (907) 543-8691 | (907) 543-7644
Manley Hot Springs Village | Miriam A. Titus, Child Protection Program Manager, Miriam.titus@tananachiefs.org | Tanana Chiefs Conference, 122 First Avenue, Ste 600, Fairbanks, AK 99701 | (907) 452-8251 | (907) 459-3984
Manokotak Village | Lou Johnson, Children's Services Division Manager, ljohnson@bbna.org | Bristol Bay Native Association, P.O. Box 310, Dillingham, AK 99576 | (907) 842-4139 | (907) 842-4106
McGrath Native Village | Miriam A. Titus, Child Protection Program Manager, miriam.titus@tananachiefs.org | Tanana Chiefs Conference, 122 First Avenue, Ste 600, Fairbanks, AK 99701 | (907) 452-8251 | (907) 459-3984
Mentasta Traditional Council | Sarah Martin, ICWA Caseworker, mentasta.icwa@gmail.com | P.O. Box 6019, Mentasta Lake, AK 99780 | (907) 291-2319 | (907) 291-2305
Metlakatla Indian Community, Annette Island Reserve | Jacqueline Wilson, Craig White, ICWA Social Worker, Social Services Director, Jwilsonm4@outlook.com | P.O. Box 8, Metlkatla, AK 99926 | (907) 886-6914 | (907) 886-6913
Naknek Native Village | Linda Halverson, Tribal President, nnvcpresident@gmail.com | P.O. Box 210, Naknek, AK 99633 | (907) 246-4210 | (907) 246-3563
Native Village of Afognak | Denise Malutin, ICWA Program Manager, denise@afognak.org | 115 Mill Bay Road, Kodiak, AK 99615 | (907) 486-6357 | (907) 486-6529
Native Village of Akhiok | Amanda Holden, ICWA Specialist, Amanda.holden@kodiakhealthcare.org | Kodiak Area Native Association, 3449 Rezanof Drive East, Kodiak, AK 99615 | (907) 952-3628 | (907) 486-1329
Native Village of Akutan | Amanda McAdoo, Family Services Coordinator, amandam@apiai.org | Aleutian Pribilof Islands Association Inc., 1131 E International Airport Road, Anchorage, AK 99518 | (907) 276-2700 | (907) 222-9735
Native Village of Aleknagik | Lou Johnson, Children's Services Division Manager, ljohnson@bbna.com | Bristol Bay Native Association, P.O. Box 310, Dillingham, AK 99576 | (907) 842-4139 | (907) 842-4106
Native Village of Ambler | Jackie Hill, Director, Jackie.hill@maniilaq.org | Maniilaq Association Family Services, P.O. Box 256, Kotzebue, AK 99752 | (907) 442-7879 | (907) 442-7885
Native Village of Atka | Amanda McAdoo, Family Services Coordinator, amandam@apiai.org | Aleutian Pribilof Islands Association Inc., 1131 E International Airport Road, Anchorage, AK 99518 | (907) 276-2700 | (907) 222-9735
Native Village of Barrow Inupiat Traditional Government | Mary Jane Lang, Executive Director, maryjane.lang@nvbarrow.net | P.O. Box 1130, Barrow, AK 99723 | (907) 852-4411 | (907) 852-8844
Native Village of Belkofski | Amanda McAdoo, Family Services Coordinator, amandam@apiai.org | Aleutian Pribilof Islands Association Inc., 1131 E International Airport Road, Anchorage, AK 99518 | (907) 276-2700 | (907) 222-9735
Native Village of Brevig Mission | Heather Payenna, Children & Family Services Manager, hpayenna@kawerak.org | Kawerak Inc. Children & Family Services, P.O. Box 948, Nome, AK 99762 | (907) 443-4261 | (907) 443-4601
Native Village of Buckland | Rebecca Hadley, ICWA Coordinator, icwa@nunachiak.org | P.O. Box 67, Buckland, AK 99727 | (907) 494-2171 | (907) 494-2192
Native Village of Cantwell | Arleen Lenard, ICWA Advocate, alenard@crnative.org | P.O. Box H, Copper Center, AK 99573 | (907) 822-5241 | (888) 959-2389
Native Village of Chenega (aka Chanega) | Buell Russell, General Manager, brussell@chenegaira.com | 3000 C Street, Ste 200, Anchorage, AK 99503 | (907) 230-3036 | (907) 569-6939
Native Village of Chignik Lagoon | Lou Johnson, Children's Services Division Manager, ljohnson@bbna.com | Bristol Bay Native Association, P.O. Box 310, Dillingham, AK 99576 | (907) 842-4139 | (907) 842-4106
Native Village of Chitina | Gyna Gordon, ICWA Worker, ggordonCTIVCicwa@outlook.com | P.O. Box 31, Chitina, AK 99566 | (907) 823-2215 | (907) 823-2285
Native Village of Chuathbaluk (Russian Mission, Kuskokwim) | Sharon Lindley, ICWA Manager, Icwa2@avcp.org | Association of Village Council Presidents, P.O. Box 218, Bethel, AK 99559 | (907) 543-8691 | (907) 543-7644
Native Village of Council | Rhonda West, Tribal Coordinator | P.O. Box 2050, Nome, AK 99762 | (907) 443-4498 | (907) 443-5965
Native Village of Deering | Pearl Moto, ICWA Coordinator, icwa@ipnatchiaq.org | P.O. Box 36095, Deering, AK 99736 | (907) 363-2229 | (907) 363-2195
Native Village of Diomede (aka Inalik) | Heather Payenna, CFS Manager, hpayenna@kawerak.org | Kawerak Inc. Children & Family Services, P.O. Box 948, Nome, AK 99762 | (907) 443-4261 | (907) 443-4601
Native Village of Eagle | Miriam A. Titus, Child Protection Program Manager, miriam.titus@tananachiefs.org | Tanana Chiefs Conference, 122 First Avenue, Ste 600, Fairbanks, AK 99701 | (907) 452-8251 | (907) 459-3984
Native Village of Eek | Sharon Lindley, ICWA Manager, icwa2@avcp.org | Association of Village Council Presidents, P.O. Box 218, Bethel, AK 99559 | (907) 543-8691 | (907) 543-7644
Native Village of Ekuk | Lou Johnson, Children's Services Division Manager, ljohnson@bbna.com | Bristol Bay Native Association, P.O. Box 310, Dillingham, AK 99576 | (907) 842-4139 | (907) 842-4106
Native Village of Ekwok | Lou Johnson, Children's Services Division Manager, ljohnson@bbna.com | Bristol Bay Native Association, P.O. Box 310, Dillingham, AK 99576 | (907) 842-4139 | (907) 842-4106
Native Village of Elim | Heather Payenna, CFS Manager, hpayenna@kawerak.org | Kawerak Inc. Children & Family Services, P.O. Box 948, Nome, AK 99762 | (907) 443-4261 | (907) 443-4601
Native Village of Eyak (Cordova) | Linda Powell, ICWA Coordinator, icwa@eyak-nsn.gov | P.O. Box 1388, Cordova, AK 99574 | (907) 424-2227 | (907) 424-7809
Native Village of False Pass | Amanda McAdoo, Family Services Coordinator, amandam@apiai.org | Aleutian Pribilof Islands Assn Inc., 1131 E International Airport Road, Anchorage, AK 99518 | (907) 276-2700 | (907) 222-9735
Native Village of Fort Yukon | Miriam A. Titus, Child Protection Program Manager, miriam.titus@tananachiefs.org | Tanana Chiefs Conference, 122 First Avenue, Ste 600, Fairbanks, AK 99701 | (907) 452-8251 | (907) 459-3984
Native Village of Gakona | Lisa Nicolai, ICWA Worker, gakonaprojects@gmail.com | P.O. Box 102, Gakona, AK 99586 | (907) 822-5777 | (907) 822-5997
Native Village of Gambell | Heather Payenna, CFS Manager, hpayenna@kawerak.org | Kawerak Inc. Children & Family Services, P.O. Box 948, Nome, AK 99762 | (907) 443-4261 | (907) 443-4601
Native Village of Georgetown | Tribal Administrator, info@georgetowntc.com | 5313 Arctic Blvd, Ste 104, Anchorage, AK 99518 | (907) 274-2195 | (907) 274-2196
Native Village of Goodnews Bay | Sharon Lindley, ICWA Manager, icwa2@avcp.org | Association of Village Council Presidents, P.O. Box 218, Bethel, AK 99559 | (907) 543-8691 | (907) 543-7644
Native Village of Hamilton | Sharon Lindley, ICWA Manager, icwa2@avcp.org | Association of Village Council Presidents, P.O. Box 218, Bethel, AK 99559 | (907) 543-8691 | (907) 543-7644
Native Village of Hooper Bay | Sharon Lindley, ICWA Manager, icwa2@avcp.org | Association of Village Council Presidents, P.O. Box 218, Bethel, AK 99559 | (907) 543-8691 | (907) 543-7644
Native Village of Kanatak | Lou Johnson, Children's Services Division Manager, ljohnson@bbna.com | Bristol Bay Native Association, P.O. Box 310, Dillingham, AK 99576 | (907) 842-4139 | (907) 842-4106
Native Village of Karluk | Kristeen Reft, ICWA Worker, programassistant@karluktribal.org | P.O. Box 22, Karluk, AK 99608 | (907) 241-2238 | (907) 241-2213
Native Village of Kiana | Elysa MacKenzie, ICWA Coordinator | P.O. Box 69, Kiana, AK 99749 | (907) 475-2226 | (907) 475-2266
Native Village of Kipnuk | Sharon Lindley, ICWA Manager, icwa2@avcp.org | Association of Village Council Presidents, P.O. Box 218, Bethel, AK 99559 | (907) 543-8691 | (907) 543-7644
Native Village of Kivalina | Millie Hawley, Tribal Administrator, tribeadmin@kivaliniq.org | P.O. Box 50051, Kivalina, AK 99750 | (907) 645-2153 | (907) 645-2193
Native Village of Kluti Kaah (aka Copper Center) | Willard E. Hand, Tribal Administrator, nvkkgov@klutikaah.com | P.O. Box 68, Copper Center, AK 99573 | (907) 822-5541 | (907) 822-5130
Native Village of Kobuk | Jackie Hill, Director, jackie.hill@maniilaq.org | Maniilaq Association Family Services, P.O. Box 256, Kotzebue, AK 99752 | (907) 442-7879 | (907) 442-7885
Native Village of Kongiganak | Janet Otto, ICWA Worker, Kong.tribe@gmail.com | P.O. Box 5069, Kongiganak, AK 99545 | (907) 557-5226 | (907) 557-5224
Native Village of Kotzebue | Bibianna Scott, Tribal Family Services Director, bibianna.scott@qira.org | P.O. Box 253, Kotzebue, AK 99752 | (907) 442-3467 | (907) 442-4013
Native Village of Koyuk | Heather Payenna, CFS Manager, hpayenna@kawerak.org | Kawerak Inc. Children & Family Services, P.O. Box 948, Nome, AK 99762 | (907) 443-4261 | (907) 443-4601
Native Village of Kwigillingok | Andrew Beaver, ICWA Program Director, icwa@kwigtribe.org | P.O. Box 90, Kwigillingok, AK 99622 | (907) 588-8114 | (907) 588-8429
Native Village of Kwinhagak (aka Quinhagak) | Sharon Lindley, ICWA Manager, icwa2@avcp.org | Association of Village Council Presidents, P.O. Box 218, Bethel, AK 99559 | (907) 543-8691 | (907) 543-7644
Native Village of Larsen Bay | Amanda Holden, ICWA Specialist, Amanda.holden@kodiakhealthcare.org | Kodiak Area Native Association, 3449 Rezanof Drive East, Kodiak, AK 99615 | (907) 942-3628 | (907) 486-1329
Native Village of Marshall (aka Fortuna Ledge) | Sharon Lindley, ICWA Manager, icwa2@avcp.org | Association of Village Council Presidents, P.O. Box 218, Bethel, AK 99559 | (907) 543-8691 | (907) 543-7644
Native Village of Mary's Igloo | Heather Payenna, CFS Manager, hpayenna@kawerak.org | Kawerak Inc. Children & Family Services, P.O. Box 948, Nome, AK 99762 | (907) 443-4261 | (907) 443-4601
Native Village of Mekoryuk | Melanie Shavings, ICWA Worker, melanie.s@mekoryuktc.org | P.O. Box 66, Mekoryuk, AK 99630 | (907) 827-8827 | (907) 827-8133
Native Village of Minto | Miriam A. Titus, Child Protection Program Manager, miriam.titus@tananachiefs.org | Tanana Chiefs Conference, 122 First Avenue, Ste 600, Fairbanks, AK 99701 | (907) 452-8251 |
Native Village of Nanwalek (aka English Bay) | Katrina Berestoff, ICWA Coordinator, kberestoff@gmail.com | P.O. Box 8028, Nanwalek, AK 99603 | (907) 281-2284 |
Native Village of Napaimute | Sharon Lindley, ICWA Manager, icwa2@avcp.org | Association of Village Council Presidents, P.O. Box 218, Bethel, AK 99559 | (907) 543-8691 | (907) 543-7644
Native Village of Napakiak | Sharon Lindley, ICWA Manager, icwa2@avcp.org | Association of Village Council Presidents, P.O. Box 218, Bethel, AK 99559 | (907) 543-8691 | (907) 543-7644
Native Village of Napaskiak | Sharon Lindley, ICWA Manager, icwa2@avcp.org | Association of Village Council Presidents, P.O. Box 218, Bethel, AK 99559 | (907) 543-8691 | (907) 543-7644
Native Village of Nelson Lagoon | Amanda McAdoo, Family Services Coordinator, amandam@apiai.org | Aleutian Pribilof Islands Assn Inc., 1131 E International Airport Road, Anchorage, AK 99518 | (907) 276-2700 | (907) 222-9735
Native Village of Nightmute | Sharon Lindley, ICWA Manager, icwa2@avcp.org | Association of Village Council Presidents, P.O. Box 218, Bethel, AK 99559 | (907) 543-8691 | (907) 543-7644
Native Village of Nikolski | Amanda McAdoo, Family Services Coordinator, amandam@apiai.org | Aleutian Pribilof Islands Assn Inc., 1131 E International Airport Road, Anchorage, AK 99518 | (907) 276-2700 | (907) 222-9735
Native Village of Noatak | Jennifer Sage, ICWA Coordinator, icwa@nautaaq.org | P.O. Box 89, Noatak, AK 99761 | (907) 485-2030 | (907) 485-2137
Native Village of Nuiqsut (aka Nooiksut) | Joshua Stein, Director of Social Services, Joshua.stein@arcticslope.org | Arctic Slope Native Association, P.O. Box 2153, Utqiagvik, AK 99723 | (907) 852-9374 | (907) 852-2761
Native Village of Nunam Iqua | Charlene Striling, Community Family Service Specialist III, icwa2@avcp.org | Association of Village Council Presidents, P.O. Box 218, Bethel, AK 99559 | (907) 238-3730 | (907) 238-3705
Native Village of Nunapitchuk | Tom N. Neck, Tribal Administrator, tribaladmin@yupik.org | P.O. Box 130, Nunapitchuk, AK 99641 | (907) 527-5705 | (907) 527-5711
Native Village of Ouzinkie | Amanda Holden, ICWA Specialist, Amanda.holden@kodiakhealthcare.org | Kodiak Area Native Association, 3449 Rezanof Drive East, Kodiak, AK 99615 | (907) 942-3628 | (907) 486-1329
Native Village of Paimiut | Colleen Timmer, Tribal Administrator, colleent@nvptc.org | P.O. Box 240084, Anchorage, AK 99524 | (907) 561-0304 | (907) 561-0305
Native Village of Perryville | Lou Johnson, Children's Services Division Manager, ljohnson@bbna.com | Bristol Bay Native Association, P.O. Box 310, Dillingham, AK 99576 | (907) 842-4139 | (907) 842-4106
Native Village of Pilot Point | Lou Johnson, Children's Services Division Manager, ljohnson@bbna.com | Bristol Bay Native Association, P.O. Box 310, Dillingham, AK 99576 | (907) 842-4139 | (907) 842-4106
Native Village of Point Hope | Qalayauq Frankson, Family/ICWA Case Worker, family.caseworker@tikigaq.com | P.O. Box 109, Point Hope, AK 99766 | (907) 368-3122 | (907) 368-2332
Native Village of Point Lay | Marie Ahsoak, Social Services Director, social@inupiatgov.com | Inupiat Community of the Arctic Slope, P.O. Box 934, Barrow, AK 99723 | (907) 852-5923 | (907) 852-5924
Native Village of Port Graham | Patrick Norman, Chief & ICWA Worker, pat@portgraham.org | ICWA Program, P.O. Box 5510, Port Graham, AK 99603 | (907) 284-2227 | (907) 284-2222
Native Village of Port Heiden | Amber Christensen-Fox, ICWA Worker, amber@portheidenalaska.com | P.O. Box 49007, Port Heiden, AK 99549 | (907) 837-2296 | (907) 837-2297
Native Village of Port Lions | Willie Nelson, Family Services Coordinator, familyservices@portlionstribe.org | P.O. Box 69, Port Lions, AK 99550 | (907) 454-2234 | (907) 454-2434
Native Village of Ruby | Miriam A. Titus, Child Protection Program Manager, miriam.titus@tananachiefs.org | Tanana Chiefs Conference, 122 First Avenue, Ste 600, Fairbanks, AK 99701 | (907) 452-8251 | (907) 459-3984
Native Village of Saint Michael | Heather Payenna, CFS Manager, hpayenna@kawerak.org | Kawerak Inc. Children & Family Services, P.O. Box 948, Nome, AK 99762 | (907) 443-4261 | (907) 443-4601
Native Village of Savoonga | Heather Payenna, CFS Manager, hpayenna@kawerak.org | Kawerak Inc. Children & Family Services, P.O. Box 948, Nome, AK 99762 | (907) 443-4261 | (907) 443-4601
Native Village of Scammon Bay | Sharon Lindley, ICWA Manager, icwa2@avcp.org | Association of Village Council Presidents, P.O. Box 218, Bethel, AK 99559 | (907) 543-8691 | (907) 543-7644
Native Village of Selawik | Jackie Hill, Director, jackie.hill@maniilaq.org | Maniilaq Association Family Services, P.O. Box 256, Kotzebue, AK 99752 | (907) 442-7879 | (907) 442-7885
Native Village of Shaktoolik | Heather Payenna, CFS Manager, hpayenna@kawerak.org | Kawerak Inc. Children & Family Services, P.O. Box 948, Nome, AK 99762 | (907) 443-4261 | (907) 443-4601
Native Village of Shishmaref | Heather Payenna, CFS Manager, hpayenna@kawerak.org | Kawerak Inc. Children & Family Services, P.O. Box 948, Nome, AK 99762 | (907) 443-4261 | (907) 443-4601
Native Village of Shungnak | Jackie Hill, Director, jackie.hill@maniilaq.org | Maniilaq Association Family Services, P.O. Box 256, Kotzebue, AK 99752 | (907) 442-7879 | (907) 442-7885
Native Village of Stevens | Miriam A. Titus, Child Protection Program Manager, miriam.titus@tananachiefs.org | Tanana Chiefs Conference, 122 First Avenue, Ste 600, Fairbanks, AK 99701 | (907) 452-8251 | (907) 459-3984
Native Village of Tanacross | Miriam A. Titus, Child Protection Program Manager, miriam.titus@tananachiefs.org | Tanana Chiefs Conference, 122 First Avenue, Ste 600, Fairbanks, AK 99701 | (907) 452-8251 | (907) 459-3984
Native Village of Tanana | Donna May Folger, ICWA Manager, Tanana.TFYS@gmail.com | P.O. Box 130, Tanana, AK 99777 | (907) 336-1025 | (907) 366-7246
Native Village of Tatitlek | Rami Paulsen, Tribal Administrator, rpaulsen@tatitlek.com | P.O. Box 171, Tatitlek, AK 99677 | (907) 325-2311 | (907) 325-2289
Native Village of Tazlina | Donna Renard, ICWA Coordinator, Asst.tazlina@cvinternet.net | P.O. Box 87, Glennallen, AK 99588 | (907) 822-4375 | (907) 822-5865
Native Village of Teller | Heather Payenna, CFS Manager, hpayenna@kawerak.org | Kawerak Inc. Children & Family Services, P.O. Box 948, Nome, AK 99762 | (907) 443-4261 | (907) 443-4601
Native Village of Tetlin | Miriam A. Titus, Child Protection Program Manager, miriam.titus@tananachiefs.org | Tanana Chiefs Conference, 122 First Avenue, Ste 600 , Fairbanks, AK 99701 | (907) 452-8251 | (907) 459-3984
Native Village of Tuntutuliak | Sharon Lindley, ICWA Manager, icwa2@avcp.org | Association of Village Council Presidents, P.O. Box 218, Bethel, AK 99559 | (907) 543-8691 | (907) 543-7644
Native Village of Tununak | Sharon Lindley, ICWA Manager, icwa2@avcp.org | Association of Village Council Presidents, P.O. Box 218, Bethel, AK 99559 | (907) 543-8691 | (907) 543-7644
Native Village of Tyonek | Arthur Standifer, Tribal Child Welfare Worker, tyonekicwa@gmail.com | P.O. Box 82009, Tyonek, AK 99682 | (907) 583-2209 | (907) 583-2219
Native Village of Unalakleet | Christy Schuneman, ICWA Caseworker, tfc.unk@unkira.org | P.O. Box 357, Unalakleet, AK 99684 | (907) 624-3622 | (907) 624-5104
Native Village of Unga | Amanda McAdoo, Family Services Coordinator, amandam@apiai.org | Aleutian Pribilof Islands Association Inc., 1131 E International Airport Road, Anchorage, AK 99518 | (907) 276-2700 | (907) 222-9735
Native Village of Venetie Tribal Government (Arctic Village and Village of Venetie) | Tribal President | P.O. Box 81080, Venetie, AK 99781 | (907) 849-8454 | (907) 849-8216
Native Village of Wales | Heather Payenna, CFS Manager, hpayenna@kawerak.org | Kawerak Inc. Children & Family Services, P.O. Box 948, Nome, AK 99762 | (907) 443-4261 | (907) 443-4601
Native Village of White Mountain | Heather Payenna, CFS Manager, hpayenna@kawerak.org | Kawerak Inc. Children & Family Services, P.O. Box 948, Nome, AK 99762 | (907) 443-4261 | (907) 443-4601
Nenana Native Association | Miriam A. Titus, Child Protection Program Manager, miriam.titus@tananachiefs.org | Tanana Chiefs Conference, 122 First Avenue, Ste 600, Fairbanks, AK 99701 | (907) 452-8251 | (907) 459-3984
New Koliganek Village Council | Lou Johnson, Children's Services Division Manager, ljohnson@bbna.com | Bristol Bay Native Association, P.O. Box 310, Dillingham, AK 99576 | (907) 842-4139 | (907) 842-4106
New Stuyahok Village | Lou Johnson, Children's Services Division Manager, ljohnson@bbna.com | Bristol Bay Native Association, P.O. Box 310, Dillingham, AK 99576 | (907) 842-4139 | (907) 842-4106
Newhalen Village | Maxine Wassillie, ICWA Worker, maxinewassillie@newhalentribal.com | P.O. Box 207, Iliamna, AK 99606 | (907) 571-1410 | (907) 571-1537
Newtok Village | Andrew John, Tribal Administrator, wwt10nnc@gmail.com | P.O. Box 5596, Newtok, AK 99559 | (907) 237-2202 | (907) 237-2210
Nikolai Village | Miriam A. Titus, Child Protection Program Manager, miriam.titus@tananachiefs.org | Tanana Chiefs Conference, 122 First Avenue, Ste 600, Fairbanks, AK 99701 | (907) 452-8251 | (907) 459-3984
Ninilchik Village | Christina Pinnow, ICWA Specialist, cpinnow@ninilchiktribe-nsn.gov | P.O. Box 39444, Ninilchik, AK 99639 | (907) 567-3313 | (907) 567-3354
Nome Eskimo Community | Lola Tobuk, Family Services Director | 561 E 36th Avenue, Ste 102, Anchorage, AK 99503 | (907) 339-8623 | (907) 222-2996
Nondalton Village | Fawn Silas, Tribal Administrator | P.O. Box 49, Nondalton, AK 99640 | (907) 294-2257 | (907) 294-2271
Noorvik Native Community | Jackie Hill, Director, jackie.hill@maniilaq.org | Maniilaq Association Family Svcs, P.O. Box 256, Kotzebue, AK 99752 | (907) 442-7879 | (907) 442-7885
Northway Village | Tasha Demit, ICWA Worker, icwa@aptalaska.net | P.O. Box 516, Northway, AK 99764 | (907) 778-2311 | (907) 778-2220
Nulato Village | Sharon Agnes, Director of Human Services, Sharon.agnes62@outlook.com | P.O. Box 65049, Nulato, AK 99765 | (907) 898-2339 | (907) 898-2207
Nunakauyarmiut Tribe | Sharon Lindley, ICWA Manager, icwa2@avcp.org | Association of Village Council Presidents, P.O. Box 218, Bethel, AK 99559 | (907) 543-8691 | (907) 543-7644
Organized Village of Grayling (aka Holikachuk) | Miriam A. Titus, Child Protection Program Manager, miriam.titus@tananachiefs.org | Tanana Chiefs Conference, 122 First Avenue, Ste 600, Fairbanks, AK 99701 | (907) 452-8251 | (907) 459-3984
Organized Village of Kake | Nathalie Austin, Social Services Director, icwa@kake-nsn.gov | P.O. Box 316, Kake, AK 99830 | (907) 785-6471 | (907) 785-4902
Organized Village of Kasaan | Barbara Dude, Family Services Administrator, icwamail@ccthita-nsn.gov | Central Council of the Tlingit and Haida Indian Tribes, 320 W Willoughby Ave., Ste 300, Juneau, AK 99801 | (907) 463-7169 | (907) 885-0032
Organized Village of Kwethluk | Sophie Berlin, ICWA Worker, sophieberlinovkicwa@gmail.com | P.O. Box 130, Kwethluk, AK 99621 | (907) 757-6715 | (907) 757-6328
Organized Village of Saxman | Barbara Dude, Family Services Administrator, icwamail@ccthita-nsn.gov | Central Council of the Tlingit and Haida Indian Tribes, 320 W Willoughby Ave., Ste 300, Juneau, AK 99801 | (907) 463-7169 | (907) 885-0032
Orutsararmiut Traditional Native Council | Marie Dorris, Social Services Director, mdorris@nativecouncil.org | P.O. Box 927, Bethel, AK 99559 | (907) 543-2608 | (907) 543-2639
Oscarville Traditional Village | Sharon Lindley, ICWA Manager, icwa2@avcp.org | Association of Village Council Presidents, P.O. Box 218, Bethel, AK 99559 | (907) 543-8691 | (907) 543-7644
Pauloff Harbor Village | Amanda McAdoo, Family Services Coordinator, amandam@apiai.org | Aleutian Pribilof Islands Assn Inc., 1131 E International Airport Road, Anchorage, AK 99518 | (907) 276-2700 | (907) 222-9735
Pedro Bay Village | Verna Kolyaha, Program Services, vjkolyaha@pedrobay.com | P.O. Box 47020, Pedro Bay, AK 99647 | (907) 850-2341 | (907) 850-2232
Petersburg Indian Association | Kara Wesebaum, ICWA/Social Services, icwa@piatribal.org | P.O. Box 1418, Petersburg, AK 99833 | (907) 772-3636 | (907) 772-3686
Pilot Station Traditional Village | Sharon Lindley, ICWA Manager, icwa2@avcp.org | Association of Village Council Presidents, P.O. Box 218, Bethel, AK 99559 | (907) 543-8691 | (907) 543-7644
Pitka's Point Traditional Council | Sharon Lindley, ICWA Manager, icwa2@avcp.org | Association of Village Council Presidents, P.O. Box 218, Bethel, AK 99559 | (907) 543-8691 | (907) 543-7644
Platinum Traditional Village | Sharon Lindley, ICWA Manager, icwa2@avcp.org | Association of Village Council Presidents, P.O. Box 218, Bethel, AK 99559 | (907) 543-7461 | (907) 543-7644
Portage Creek Village (aka Ohgsenakale) | Lou Johnson, Children's Services Division Manager, ljohnson@bbna.com | Bristol Bay Native Association, P.O. Box 310, Dillingham, AK 99576 | (907) 842-4139 | (907) 842-4106
Qagan Tayagungin Tribe of Sand Point | Amanda McAdoo, Family Services Coordinator, amandam@apiai.org | Aleutian Pribilof Islands Assn Inc., 1131 E International Airport Road, Anchorage, AK 99518 | (907) 276-2700 | (907) 222-9735
Qawalangin Tribe of Unalaska | Amanda McAdoo, Family Services Coordinator, amandam@apiai.org | Aleutian Pribilof Islands Assn Inc., 1131 E International Airport Road, Anchorage, AK 99518 | (907) 276-2700 | (907) 222-9735
Rampart Village | Miriam A. Titus, Child Protection Program Manager, miriam.titus@tananachiefs.org | Tanana Chiefs Conference, 122 First Avenue, Ste 600, Fairbanks, AK 99701 | (907) 452-8251 | (907) 459-3984
Saint George Island | Amanda McAdoo, Family Services Coordinator, amandam@apiai.org | Aleutian Pribilof Islands Assn Inc., 1131 E International Airport Road, Anchorage, AK 99518 | (907) 276-2700 | (907) 222-9735
Saint Paul Island | Sheridan DesGranges, ICWA Worker, icwa@aleut.com | P.O. Box 86, St. Paul Island, AK 99660 | (907) 257-2639 | (907) 546-3254
Salamatof Tribe | Maria Guerra, Family and Social Services Director, familyservicesdepartment@kenaitze.org | Kenaitze Indian Tribe, P.O. Box 988, Kenai, AK 99611 | (907) 335-7613 | (907) 202-8359
Seldovia Village Tribe | Shannon Custer, Youth & Family Services Director, scuster@svt.org | P.O. Drawer L, Seldovia, AK 99663 | (907) 234-7898 | (907) 234-7865
Shageluk Native Village | Miriam A. Titus, Child Protection Program Manager, miriam.titus@tananachiefs.org | Tanana Chiefs Conference, 122 First Avenue, Ste 600, Fairbanks, AK 99701 | (907) 452-8251 | (907) 459-3984
Sitka Tribe of Alaska | Melonie Boord, Social Services Director, melonie.boord@sitkatribe-nsn.gov | 456 Katlian Street, Sitka, AK 99835 | (907) 747-7221 | (907) 747-4915
Skagway Village | Melissa Alley, ICWA Worker, melissa@skagwaytraditional.org | P.O. Box 1157, Skagway, AK 99840 | (907) 983-4068 | (907) 983-3068
South Naknek Village | Lorianne Zimin, ICWA Coordinator | 2521 E Mountain Village Dr., Ste. B PMB 388, Wasilla, AK 99654 | (907) 631-3648 | (907) 631-0949
Stebbins Community Association | Heather Payenna, CFS Manager, hpayenna@kawerak.org | Kawerak Inc. Children & Family Services, P.O. Box 948, Nome, AK 99762 | (907) 443-4261 | (907) 443-4601
Sun'aq Tribe of Kodiak | Linda Resoff, Social Services Director, socialservices@sunaq.org | 115 Mill Bay Road, Ste 201, Kodiak, AK 99615 | (907) 486-0260 | (907) 486-0264
Takotna Village | Miriam A. Titus, Child Protection Program Manager, miriam.titus@tananachiefs.org | Tanana Chiefs Conference, 122 First Avenue, Ste 600, Fairbanks, AK 99701 | (907) 452-8251 | (907) 459-3984
Tangirnaq Native Village | Shelly Peterson, Tribal Administrator, info@woodyisland.com | 3449 Rezanof Drive East, Kodiak, AK 99615 | (907) 486-9872 | (907) 486-4829
Telida Village | Miriam A. Titus, Child Protection Program Manager, miriam.titus@tananachiefs.org | Tanana Chiefs Conference, 122 First Avenue, Ste 600, Fairbanks, AK 99701 | (907) 452-8251 | (907) 459-3984
Traditional Village of Togiak | Lou Johnson, Children's Services Division Manager, ljohnson@bbna.com | Bristol Bay Native Association, P.O. Box 310, Dillingham, AK 99576 | (907) 842-4139 | (907) 842-4106
Tuluksak Native Community | Sharon Lindley, ICWA Manager, icwa2@avcp.org | Association of Village Council Presidents, P.O. Box 218, Bethel, AK 99559 | (907) 543-8691 | (907) 543-7644
Twin Hills Village | Lou Johnson, Children's Services Division Manager, ljohnson@bbna.com | Bristol Bay Native Association, P.O. Box 310, Dillingham, AK 99576 | (907) 842-4139 | (907) 842-4106
Ugashik Village | Steven Alvarez, Tribal Administrator, manager@ugashikvillage.com | 2525 Blueberry Road, Ste 205, Anchorage, AK 99503 | (907) 338-7611 | (907) 338-7659
Umkumiut Native Village | Sharon Lindley, ICWA Manager, icwa2@avcp.org | Association of Village Council Presidents, P.O. Box 218, Bethel, AK 99559 | (907) 543-8691 | (907) 543-7644
Village of Alakanuk | Charlene Striling, Community Family Service Specialist III, icwa2@avcp.org | Association of Village Council Presidents, P.O. Box 219, Bethel, AK 99559 | (907) 543-8691 | (907) 543-7644
Village of Anaktuvuk Pass | Joshua Stein, Director of Social Services, Joshua.stein@arcticslope.org | Arctic Slope Native Association, P.O. Box 2153, Utqiagvik, AK 99723 | (907) 852-9374 | (907) 852-2761
Village of Aniak | Mary L. Kvamme, ICWA Coordinator, mkvamme61@gmail.com | P.O. Box 349, Aniak, AK 99556 | (907) 675-4349 | (907) 675-4513
Village of Atmautluak | Joanne Paul, ICWA Worker, Icwa617@gmail.com | P.O. Box 6568, Atmautluak, AK 99559 | (907) 553-5510 | (907) 553-5612
Village of Bill Moore's Slough | Sharon Lindley, ICWA Manager, icwa2@avcp.org | Association of Village Council Presidents, P.O. Box 218, Bethel, AK 99559 | (907) 543-8691 | (907) 543-7644
Village of Chefornak | Edward Kinegak, ICWA Specialist, suckaq@gmail.com | P.O. Box 110, Chefornak, AK 99561 | (907) 867-8808 | (907) 867-8711
Village of Clarks Point | Lou Johnson, Children's Services Division Manager, ljohnson@bbna.com | Bristol Bay Native Association, P.O. Box 310, Dillingham, AK 99576 | (907) 542-4139 | (907) 842-4106
Village of Crooked Creek | Sharon Lindley, ICWA Manager, icwa2@avcp.org | Association of Village Council Presidents, P.O. Box 218, Bethel, AK 99559 | (907) 543-8691 | (907) 543-7644
Village of Dot Lake | Tracy Charles-Smith or Chance Shank, ICWA Worker, mwalleri@fairbanksaklaw.com | P.O. Box 70494, Fairbanks, AK 99701 | (907) 882-2695 | (907) 882-5558
Village of Iliamna | Louise Anelon, ICWA Worker, louise.anelon@iliamnavc.org | P.O. Box 286, Iliamna, AK 99606 | (907) 571-3532 | (907) 571-3539
Village of Kalskag | Sharon Lindley, ICWA Manager, icwa2@avcp.org | Association of Village Council Presidents, P.O. Box 218, Bethel, AK 99559 | (907) 543-8691 | (907) 543-7644
Village of Kaltag | Miriam A. Titus, Child Protection Program Manager, miriam.titus@tananachiefs.org | Tanana Chiefs Conference, 122 First Avenue, Ste 600, Fairbanks, AK 99701 | (907) 452-8251 | (907) 459-3984
Village of Kotlik | Charlene Striling, Community Family Service Specialist III, icwa2@avcp.org | Association of Village Council Presidents, P.O. Box 218, Bethel, AK 99559 | (907) 543-8691 | (907) 543-7644
Village of Lower Kalskag | Sharon Lindley, ICWA Manager, icwa2@avcp.org | Association of Village Council Presidents, P.O. Box 218, Bethel, AK 99559 | (907) 543-8691 | (907) 543-7644
Village of Ohogamiut | Sharon Lindley, ICWA Manager, icwa2@avcp.org | Association of Village Council Presidents, P.O. Box 218, Bethel, AK 99559 | (907) 543-8691 | (907) 543-7644
Village of Red Devil | Sharon Lindley, ICWA Manager, icwa2@avcp.org | Association of Village Council Presidents, P.O. Box 218, Bethel, AK 99559 | (907) 543-8691 | (907) 543-7644
Village of Sleetmute | Sharon Lindley, ICWA Manager, icwa2@avcp.org | Association of Village Council Presidents, P.O. Box 218, Bethel, AK 99559 | (907) 543-8691 | (907) 543-7644
Village of Solomon | Elizabeth Johnson, tc.sol@kawerak.org | P.O. Box 2053, Nome, AK 99762 | (907) 443-4985 | (907) 443-5189
Village of Stony River | Sharon Lindley, ICWA Manager, icwa2@avcp.org | Association of Village Council Presidents, P.O. Box 218, Bethel, AK 99559 | (907) 543-8691 | (907) 543-7644
Village of Venetie (See Native Village of Venetie Tribal Government) | Miriam A. Titus, Child Protection Program Manager, miriam.titus@tananachiefs.org | Tanana Chiefs Conference, 122 First Avenue, Ste 600, Fairbanks, AK 99701 | (907) 452-8251 | (907) 459-3984
Village of Wainwright | Joshua Stein, Director of Social Services, Joshua.stein@arcticslope.org | Arctic Slope Native Association, P.O. Box 2153, Utqiagvik, AK 99723 | (907) 852-9374 | (907) 852-2761
Wrangell Cooperative Association | Barbara Dude, Family Services Administrator, cwamail@ccthita-nsn.gov | Central Council of the Tlingit and Haida Indian Tribes, 320 W Willoughby Ave., Ste 300, Juneau, AK 99801 | (907) 463-7169 | (907) 885-0032
Yakutat Tlingit Tribe | Marry Knutsen, ICWA Advocate, mknutsen@ytttribe.org | P.O. Box 418, Yakutat, AK 99689 | (907) 784-3268 | (907) 784-3595
Yupiit of Andreafski | Sharon Lindley, ICWA Manager, icwa2@avcp.org | Association of Village Council Presidents, P.O. Box 218, Bethel, AK 99559 | (907) 543-8691 | (907) 543-7644

2. Eastern Region

Eastern Regional Director, 545 Marriott Drive, Suite #700, Nashville, TN 37214; Phone: (615) 546-6500; Fax: (615) 564—6701.

Tribe | ICWA POC | Mailing address | Telephone No. | Fax No.
Aroostook Band of Micmacs | Norma Saulis, ICWA Coordinator, nsaulis@micmac-nsn.gov | 7 Northern Road, Presque Isle, ME 04769 | (207) 764-1972 | (207) 764-7667
Catawba Indian Nation (previously listed as Catawba Tribe of South Carolina) | Jessica Grant, Program Manager, Jessica.grant@catabaindian.net | Catawba Indian Nation, 996 Avenue of Nations, Rock Hill, SC 29730 | (803) 366-4792 | (803) 325-1242
Cayuga Nation | Sharon Leroy, Executor, sharon.leroy@nsncayuganation-nsn.gov | P.O. Box 803, Seneca Falls, NY 13148 | (315) 568-0750 | (315) 568-0752
Chickahominy Indian Tribe | Martha N. Adkins, ICWA Coordinator | 8200 Lott Cary Road, Providence Forge, VA 23140 | (804) 829-2027 |
Chickahominy Indian Tribe—Eastern Division | Gene W. Adams, Chief, doris.austin@cied.org | 8200 Loft Cary Road, Providence Forge, VA 23140 | (808) 966-7815 |
Chitimacha Tribe of Louisiana | Karen Matthews, Director of Health and Human Services, karen@chitimacha.gov | P.O. Box 520, Charenton, LA 70523 | (337) 923-7000 | (337) 923-2475
Coushatta Tribe of Louisiana | Rayne Langley, Social Services Interim Director, rlangley@coushattatribela.org | 1984 CC Bel RD, Elton, LA 70532 | (337) 584-1433 |
Eastern Band of Cherokee Indians | Jenny Bean, Family Safety Supervisor, jennbean@nc-cherokee.com | P.O. Box 666, Cherokee, NC 28719 | (828) 359-6149 | (828) 359-0216
Houlton Band of Maliseet Indians | Lori Jewell, ICWA Coordinator, ljewell@maliseets.com | 13-2 Clover Court, Houlton, ME 04730 | (207) 532-7260 | (207) 532-7287
Jena Band of Choctaw Indians | Mona Maxwell, Social Services Director, mmaxwell@jenachoctaw.org | P.O. Box 14, Jena, LA 71342 | (318) 992-0136 | (318) 992-4162
Mashantucket Pequot Indian Tribe | Valerie Burgess, Director Child Protective Services, vburgess@mptn-nsn.gov | P.O. Box 3313, Mashantucket, CT 6338 | (860) 396-2007 | (860) 396-2144
Mashpee Wampanoag Tribe | Catherine M. Hendrix, ICWA Director, catherine.hendricks@nwtribe-nsn.gov | 483 Great Neck Road—South, Mashpee, MA 02639 | (508) 477-0208 | (774) 361-6034
Miccosukee Tribe of Indians | Martha Vewga, Director of Social Services, marthavdg13@gmail.com | 37790 SW 8 Street, Tumiami Station, Miami, FL 33194 | (305) 223-8380 | (305) 894-5232
Mississippi Band of Choctaw Indians | Jessica Martinez, ICWA Coordinator, icwa@choctaw.org | P.O. Box 6258, Choctaw, MS 39350 | (601) 656-4507 | (601) 656-1357
Mohegan Tribe of Indians of Connecticut | Connie Hilbert, Director of Tribal Member Services | 13 Crow Hill Road, Uncasville, CT 06832 | (860) 862-6253 | (860) 862-6324
Monacan Indian Nation | Chief Kenneth Branham, TribalOffice@MonacanNation. com | P.O. Box 960, Amherst, VA 24521 | (434) 946-0389 |
Nansemond Indian Tribe | Sam Bass, ICWA Coordinator, samflyingeagle@yahoo.com | 1001 Pembroke Lane, Suffolk, VA 23434 |  |
Narragansett Indian Tribe | Wenonah Harris, Director, Tribal Child Advocate, Wenonah@nithpo.com | P.O. Box 268, Charlestown, RI 02813 | (401) 824-9034 | (401) 364-1104
Oneida Indian Nation | Kim Jacobs, Nation Clerk, kjacobs@oneida-nation.org | Box 1, Vernon, NY 13476 | (315) 829-8337 | (315) 366-9231
Onondaga Nation | Cissy Elm, Director | 4040 Route 11, 104 W Conklin Ave., Nedrow, NY 13120 | (315) 469-9196 | (315) 469-3250
Pamunkey Indian Tribe | Allyn Cook-Swarts, Tribal Administrator, allyn.cook-swarts@pamunkey.org | 1054 Pocahontas Trail, King William, VA 23086 | (804) 843-2372 |
Passamaquoddy Tribe: | (see below) | (see below) | (see below) | (see below)
—Indian Township | Tracy Dore, Director of Child Welfare, tracydore@itcwpass.com | P.O. Box 301, Princeton, ME 04668 | (207) 796-6133 |
—Pleasant Point | Frances LaCoute, Social Services Director, flacoute@wabanaki.com | P.O. Box 343, Perry, ME 04667 | (207) 853-2600 | (207) 853-9618
Penobscot Nation | Michael Ausgustine, Director of Social Services, Brooke.loring@penobscotnation.org | 1 Down Street, Indian Island, ME 04468 | (207) 817-3461 | (207) 817-3166
Poarch Band of Creeks | Synthia K. Thomas, ICWA Director, sthomas@pci-nsn.gov | 5811 Jack Springs Road, Atmore, AL 36502 | (251) 368-9136 |
Rappahannock Tribe, Inc. | G. Anne Richardson, ICWA Coordinator | 5036 Indian Neck Road, Indian Neck, VA 23148 | (804) 796-0260 |
Saint Regis Mohawk Tribe | Jean Square, ICWA Program Manager, icwa@srmt-nsn.gov | 412 State Route 37, Akwesasne, NY 13365 | (518) 358-2360 | (518) 358-9107
Seminole Tribe of Florida | Shamika Beasley, Advocacy Administrator, shamikabeasley@semtribe.com | 111 W Coral Way, Hollywood, FL 33024 | (954) 965-1338 | (954) 985-2339
Seneca Nation of Indians | Sharon Francis, ICWA Coordinator, sfrancis@senecahealth.org | 36 Thomas Indian School Drive, Irving, NY 14081 | (716) 532-8223 | (716) 945-7881
Shinnecock Indian Nation | Paula Collins, paulacollins@shinnecock.org | P.O. Box 1268, South Hampton, NY 11969 | (631) 287-6476 |
Tonawanda Band of Seneca | Darwin Hill, Chief, tonseneca@aol.com | Council of Chiefs, 7027 Meadville Road, Basom, NY 14013 | (716) 542-4244 | (716) 542-4008
Tunica-Biloxi Indian Tribe | Evelyn Cass, Registered Social Worker, ecass@tunica.org | P.O. Box 493, Marksville, LA 71351 | (318) 240-6444 | (318) 500-3011
Tuscarora Nation | ICWA Coordinator | 2006 Mt. Hope Road, Lewistown, NY 14092 |  |
Upper Mattaponi Tribe | Wilma Hicks, Assistant Tribal Coordinator, assistantadmin@umitribe.org | 13476 King William Rd, King William, VA 23086 | (804) 769-0041 |
Wampanoag Tribe of Gay Head (Aquinnah) | Ambika Datta, ICWA Coordinator, chairwoman@wampanoagtribe.net | 20 Black Brook Road, Aquinnah, MA 02535 | (508) 645-9265 | (508) 645-2755

3. Eastern Oklahoma Region

Eastern Oklahoma Regional Director, 3100 W Peak Blvd., Muskogee, OK 74401; Phone: (918) 781-4608; Fax: (918) 781-4604.

Tribe | ICWA POC | Mailing address | Telephone No. | Fax No.
Alabama-Quassarte Tribal Town | Samuel Deere, ICW Director, sdeere@alabama-quassarete.org | P.O. Box 187, Wetumka, OK 74883 | (405) 452-3659 | (405) 452-3435
Cherokee Nation | Lou Stretch, ICW Director, lou-stretch@cherokee.org | P.O. Box 948, Tahlequah, OK 74465 | (918) 458-6900 | (918) 458-6146
Delaware Tribe of Indians | Aimee Turner, Department of Family and Children Services, aturner@delawaretribe.org | 5100 Tuxedo Blvd., Suite #C, Bartlesville, OK 74006 | (918) 337-6510 | (918) 337-6518
Eastern Shawnee Tribe of Oklahoma | Tamara Gibson, Child and Family Services Coordinator, tgibson@estoo.net | 10100 S Bluejacket Road Suite #3, Wyandotte, OK 74370 | (918) 666-7710 | (888) 971-3908
Kialegee Tribal Town | Sheila Armstrong, ICW Coordinator, sheila.armstrong@kialegeetribe.net | P.O. Box 332, Wetumka, OK 74883 | (405) 452-5388 | (405) 452-3413
Miami Tribe of Oklahoma | Wanda Stovall, ICW Coodinator | P.O. Box 1326, Miami, OK 74355 | (918) 541-1359 | (918) 542-6448
Modoc Nation | Regina Shelton, Children & Family Services Specialist, Regina.shelton@modoctribe.com | 625 6th SE, Miami, OK 74354 | (918) 542-7890 | (918) 542-7878
Ottawa Tribe of Oklahoma | Roy A. Ross, Social Services and CPS Director, rross.oto@gmail.com | P.O. Box 110, Miami, OK 74355 | (918) 540-1536 | (918) 542-3214
Peoria Tribe of Indians of Oklahoma | Tracy Coach, Indian Child Welfare Director, tcoach@peoriatribe.com | P.O. Box 1527, Miami, OK 74355 | (918) 540-2535 | (918) 540-2538
Quapaw Nation | Mandy Dement, Family Services, mdement@quapawtribe.com | P.O. Box 765, Quapaw, OK 74363 | (918) 238-3152 | (918) 674-2581
Seneca-Cayuga Nation | Dana Giles, Family Service Manager, dgiles@sctribe.com | 23701 South 655, Grove, OK 74344 | (918) 786-3508 | (918) 787-5521
Shawnee Tribe | Sean Graham, ICW Representative, sean@shawnee-tribe.com | P.O. Box 189, Miami, OK 74355 | (918) 542-7232 |
The Chickasaw Nation | Michelle Price, Director, Michelle.price@chickasaw.net | 810 Colony Drive, Ada, OK 74820 | (580) 272-5550 | (580) 272-5553
The Choctaw Nation of Oklahoma | Amanda Robinson, ICW Director, cfsreferrals@choctawnation.com | P.O. Box 1210, Durant, OK 74702 | (580) 924-8280 | (580) 920-3197
The Muscogee (Creek) Nation | Kimee Wind-Hummingbird, Director of Child and Family Services, Kwind-hummingbird@mcn-nsn.gov | P.O. Box 580, Okmulgee, OK 74447 | (918) 732-7859 | (918) 732-7855
The Osage Nation | Ladonna Shadlow, Social Services Director, lshadlow@osagenation-nsn.gov | 255 Senior Drive, Pawhuska, OK 74056 | (918) 287-5243 | (918) 287-5231
The Seminole Nation of Oklahoma | Tracy Haney, Director, Haney.t@sno-nsn.gov | P.O. Box 1498, Wewoka, OK 74884 | (405) 257-9038 | (405) 257-9036
Thlopthlocco Tribal Town | Yvonda Fixico, Social Service Director, yfixico@tttown.org | P.O. Box 188, Okemah, OK 74859 | (918) 560-6121 | (918) 623-3023
United Keetoowah Band of Cherokee Indians in Oklahoma | Roxana Wilden, ICW Advocate, rwilden@ukb-nsn.gov | P.O. Box 746, Tahlequah, OK 74465 | (918) 871-2839 | (918) 431-0152
Wyandotte Nation | Tara Gragg, Social Worker, tgragg@wyandotte-nation.org | 64700 E Hwy. 60, Wyandotte, OK 74370 | (918) 678-6355 | (918) 678-3087

4. Great Plains Region

Great Plains Regional Director, 115 4th Avenue SE, Aberdeen, SD 57401; Phone: (605) 226-7343; Fax: (605) 226-7446.

Tribe | ICWA POC | Mailing address | Telephone No. | Fax No.
Cheyenne River Sioux Tribe of the Cheyenne River Reservation, South Dakota | Diane Garreau, ICWA Program Director, Dgarreau61@hotmail.com | P.O. Box 590, Eagle Butte, SD 57625 | (605) 964-6460 | (605) 964-6463
Crow Creek Sioux Tribe of the Crow Creek Reservation, South Dakota | Marlow Medicine Crow, Jr., ICWA Director, icwaccst@gmail.com | P.O. Box 143, Ft Thompson, SD 57339 | (605) 245-2581 | (605) 245-2401
Flandreau Santee Sioux Tribe of South Dakota | Jessica Morson, ICWA Administrator, jessica.morson@fsst.org | P.O. Box 283, Flandreau, SD 57028 | (605) 997-5055 | (605) 997-3694
Lower Brule Sioux Tribe of the Lower Brule Reservation, South Dakota | Jera Brouse-Koster, Designated Tribal Agent-ICWA, jerabrouse@lowerbrule.net | 187 Oyate Circle, Lower Brule, SD 57548 | (605) 473-5561 | (605) 473-0119
Oglala Sioux Tribe | David Red Cloud, ICWA Specialist, DavidRedCloud77@yahoo.com | P.O. Box 604, Pine Ridge, SD 57770 | (605) 867-5752 | (605) 867-5941
Omaha Tribe of Nebraska | Mosiah Harlan, ICWA Director, mosiah.harlan@omahatribe.com | 106 S Tallman Street, Walthill, NE 68067 | (402) 837-5331 | (402) 837-5362
Ponca Tribe of Nebraska | Lynn Schultz, ICWA Specialist, lschultz@poncatribe-ne.org | 1800 Syracuse Avenue, Norfolk, NE 68701 | (402) 371-8834 | (402) 371-7564
Rosebud Sioux Tribe of the Rosebud Indian Reservation, South Dakota | Shirley J. Bad Wound, ICWA Specialist, rsticwa9@gwtc.netrsticwa9@gwtc.net | P.O. Box 609, Mission, SD 57555 | (605) 856-5270 | (605) 856-5268
Santee Sioux Nation, Nebraska | Renae Wolf, ICWA Specialist, renae.wolf@nebraska.gov | P.O. Box 5191, Niobrara, NE 68760 | (402) 857-2342 | (402) 857-2361
Sisseton-Wahpeton Oyate of the Lake Traverse Reservation, South Dakota | Evelyn Pilcher, ICWA Director, evelyn.pilcher@state.sd.us | P.O. Box 509, Agency Village, SD 57262 | (605) 698-3992 | (605) 698-3999
Spirit Lake Tribe, North Dakota | Marie Martin, ICWA Coordinator, slticwadir@spiritlakenation.com | P.O. Box 356, Fort Totten, ND 58335 | (701) 766-4404 | (701) 766-4722
Standing Rock Sioux Tribe of North & South Dakota | Rebecca Greybull, ICWA Coordinator, rgreybull@standingrock.org | P.O. Box 770, Fort Yates, ND 58538 | (701) 854-3095 | (701) 854-5575
Three Affiliated Tribes of the Fort Berthold Reservation, North Dakota | Bobbie Johnson, ICWA Specialist, bjohnson@mhanation.com | 404 Frontage Road, New Town, ND 58763 | (701) 627-8199 | (701) 627-4225
Turtle Mountain Band of Chippewa Indians of North Dakota | Marilyn Poitra, ICWA Coordinator, marilynp@tmcwfs.net | P.O. Box 900, Belcourt, ND 58316 | (701) 477-5688 | (701) 477-5797
Winnebago Tribe of Nebraska | Elexa Mollet, ICWA Specialist, elexa.mollet@winnebagotribe.com | P.O. Box 723, Winnebago, NE 68071 | (402) 878-2379 | (402) 878-2228
Yankton Sioux Tribe of South Dakota | Melissa Sanchez, ICWA Director, yst_icwa@outlook.com | P.O. Box 1153, Wagner, SD 57380 | (605) 384-5712 | (605) 384-5014

5. Midwest Region

Midwest Regional Director, 5600 West American Blvd., Suite #500, Norman Pointe II Building, Bloomington, MN 55437; Phone: (612) 725-4500; Fax: (612) 713-4401.

Tribe | ICWA POC | Mailing address | Telephone No. | Fax No.
Bad River Band of the Lake Superior Tribe of Chippewa Indians of the Bad River Reservation, Wisconsin | Gina Secord, Abinoojiyag Resource Center Program Manager, ARCMgr@badriver-nsn.gov | P.O. Box 55, Odanah, WI 54861 | (715) 682-7135 | (715) 682-7887
Bay Mills Indian Community, Michigan | Phyllis Kinney, Tribal Court Administrator, phyllisk@baymills.org | 12449 West Lakeshore Drive, Brimley, MI 49715 | (906) 248-3241 | (906) 248-8811
Forest County Potawatomi Community, Wisconsin | Maline Enders, ICWA Supervisor, maline.enders@fcpotawatomi-nsn.gov | 5415 Everybody's Road, Crandon, WI 54520 | (715) 478-4812 | (715) 478-7442
Grand Traverse Band of Ottawa & Chippewa Indians, Michigan | Helen Cook, Anishinaabek Family Services Supervisor, helen.cook@gtbindians.com | 2605 N West Bayshore Drive, Peshawbestown, MI 49682 | (231) 534-7681 | (231) 534-7706
Hannahville Indian Community, Michigan | Wendy Lanaville, ICWA Worker, wendy.lanaville@hichealth.org | N15019 Hannahville B1 Road, Wilson, MI 49896 | (906) 723-2512 | (906) 466-7397
Ho-Chunk Nation of Wisconsin | Valerie Blackdeer, CFS Director, valerie.blackdeer@ho-chunk.com | P.O. Box 40, Black River Falls, WI 54615 | (715) 284-2622 | (715) 284-9486
Keweenaw Bay Indian Community, Michigan | Caitlin Bowers, Director, cbowers@kbic-nsn.gov | 16429 Bear Town Road, Baraga, MI 49908 | (906) 353-4201 | (906) 353-8171
Lac Courte Oreilles Band of Lake Superior Chippewa Indians of Wisconsin | Tibissum Rice, Indian Child Welfare Director, Tibissum.Rice@lco-nsn.gov, Tibissum.Rice@lco-nsn.gov | 13394 W Trepania Road, Hayward, WI 54843 | (715) 558-7457 | (715) 634-2981
Lac du Flambeau Band of Lake Superior Chippewa Indians of the Lac du Flambeau Reservation of Wisconsin | Kristin Allen, ICW Director, ldficw@ldftribe.com | P.O. Box 216, Lac du Flambeau, WI 54538 | (715) 588-4275 | (715) 588-3855
Lac Vieux Desert Band of Lake Superior Chippewa Indians of Michigan | Dee Dee McGeshick, Social Services Director and Marisa Vanzile, dee.mcgeshick@lvdtribal.com | P.O. Box 249, Watersmeet, MI 49969 | (906) 358-4940 | (906) 358-9920
Little River Band of Ottawa Indians, Michigan | Shayne Machen, Prosecutor, shayne_machen@lrboi-nsn.gov | 3031 Domres Road, Manistee, MI 49660 | (231) 398-3384 | (231) 398-3387
Little Traverse Bay Bands of Odawa Indians, Michigan | Heather Boening, Human Services Director, hboening@ltbbodawa-nsn.gov | 7500 Odawa Circle, Attn: DHS, Harbor Springs, MI 49740 | (231) 242-1620 | (213) 242-1635
Lower Sioux Indian Community in the State of Minnesota | Lisa Jones, Director, lisa.jones@lowersioux.com | 39458 Reservation Highway 1, Morton, MN 56270 | (507) 697-8683 | (507) 697-6198
Match-e-be-nash-she-wish Band of Pottawatomi Indians of Michigan | Dominique Ambriz, ICWA Representative, Dominique.Ambriz@hhs.glt-nsn.gov | 2880 Mission Dr., Shelbyville, MI 49344 | (269) 397-1760 | (269) 397-1763
Menominee Indian Tribe of Wisconsin | Carol Corn, Director of Social Services, ccorn@mitw.org | P.O. Box 520, Keshena, WI 54135 | (715) 799-5161 | (715) 799-6061
Minnesota Chippewa Tribe—Bois Forte Band (Nett Lake) | Angela Wright, Indian Child Welfare Supervisor, amwright@boisforte-nsn.gov | 13071 Nett Lake Road, Ste. #A, Nett Lake, MN 55771 | (218) 757-3295 | (218) 757-3335
Minnesota Chippewa Tribe—Fond du Lac Band | Kevin Dupuis, Chairman, Indian Child Welfare Supervisor, kevindupuis@fdlrez.com | 1720 Big Lake Road, Cloquet, MN 55720 | (218) 879-4593 | (218) 879-4146
Minnesota Chippewa Tribe—Grand Portage Band | ICWA Representative, Human Service Director, humanservices@grandportage.com | P.O. Box 428, Grand Portage, MN 55605 | (218) 475-2453 | (218) 475-2455
Minnesota Chippewa Tribe—Leech Lake Band | Dawn Eckdahl, Child Welfare Department Manager, dawn.eckdahl@llojibwe.net | P.O. Box 967, Cass Lake, MN 56633 | (218) 335-8270 | (218) 335-7234
Minnesota Chippewa Tribe—Mille Lacs Band | Mishelle Ballinger, Administrative Case Aid, Intake Family Services, mishelle.ballinger@hhs.millelacsband-nsn.gov | 18562 Minobimaadizi Loop, Onamia, MN 56359 | (320) 532-7766 | (320) 532-4569
Minnesota Chippewa Tribe—White Earth Band | Laurie York, Program Director, laurie.york@whiteearth-nsn.gov | White Earth Indian Child Welfare, P.O. Box 358, White Earth, MN 56591 | (218) 983-4647 | (218) 983-3712
Minnesota Chippewa Tribe, Minnesota | George Goggleye, Human Services Director, ggoggleye@mnchippewatribe.org | P.O. Box 217, Cass Lake, MN 56633 | (218) 335-8586 | (218) 335-8080
Nottawaseppi Huron Band of the Potawatomi, Michigan | Meg Fairchild, Social Services Director, meg.fairchild@nhbp-nsn.gov | 1485 Mno Bmadzewen Way, Fulton, MI 49052 | (269) 704-8341 | (269) 729-5920
Oneida Nation | Jennifer Berg-Hargrove, Family Services Director, icw@oneidanation.org | ATTN: Oneida Family Services, ICW Department, P.O. Box 365, Oneida, WI 54155 | (920) 490-3700 | (920) 490-3820
Pokagon Band of Potawatomi Indians, Michigan & Indiana | Mark Pompey, Social Services Director, mark.pompey@pokagonband-nsn.gov | 58620 Sink Road, Dowagiac, MI 49047 | (269) 462-4277 | (269) 782-4295
Prairie Island Indian Community in the State of Minnesota | Patricia Aw-Yang, Enrollment Office, Patricia.Aw-Yang@piic.org | 5636 Sturgeon Lake Road, Welch, MN 55089 | (651) 385-4126 | (651) 385-4180
Red Cliff Band of Lake Superior Chippewa Indians of Wisconsin | Gretchen Morris, Indian Child Welfare Director, gretchen.morris@redcliff-nsn.gov | 37820 Community Road, Bayfield, WI 54814 | (715) 779-3785 | (715) 779-3783
Red Lake Band of Chippewa Indians, Minnesota | ICWA Representative, Executive Director—Family & Children Services, icwa@redlakenation.org | P.O. Box 427, Red Lake, MN 56671 | (612) 286-8057 |
Sac and Fox Tribe of the Mississippi in Iowa | Brian Walker, ICWA Coordinator, sww.mfs@meskwaki-nsn.gov | P.O. Box 245, Tama, IA 52339 | (641) 484-4444 | (641) 484-2103
Saginaw Chippewa Indian Tribe of Michigan | Angela Gonzalez, ICWA & Licensing Supervisor, agonzalez@sagchip.org | 7070 East Broadway Road, Mt. Pleasant, MI 48858 | (989) 775-4901 | (989) 775-4912
Sault Ste. Marie Tribe of Chippewa Indians, Michigan | Melissa VanLuven, ICWA Program Director, ICWA-MIFPA-Contacts@saulttribe.net | 2218 Shunk Rd., Sault Ste. Marie, MI 49783 | (906) 632-5250 | (906) 632-5266
Shakopee Mdewakanton Sioux Community of Minnesota | Tribal Records, ICWA Contact, tribalrecords@shakopeedakota.org | 2330 Sioux Trail NW, Prior Lake, MN 55372 | (952) 496-6101 |
Sokaogon Chippewa Community, Wisconsin | Nick Vanzile, Director Indian Child Welfare, nick.vanzile@scc-nsn.gov | 10808 Sokaogon Drive, Crandon, WI 54520 | (715) 478-6437 | (715) 478-0692
St. Croix Chippewa Indians of Wisconsin | Elizabeth Lowe, Indian Child Welfare Director, elizabethl@stcroixojibwe-nsn.gov | 4404 State Road 70, Webster, WI 54893 | (715) 214-2940 |
Stockbridge Munsee Community, Wisconsin | Teresa Juga, ICWA Manager, teresa.juga@mohican.com | Stockbridge Munsee Health and Wellness Center, W12802 County A, Bowler, WI 54416 | (715) 793-4580 | (715) 793-1312
Upper Sioux Community, Minnesota | Kathleen Pruess, ICWA Representative, kathleenp@uppersiouxcommunity.nsn.gov | P.O. Box 147, Granite Falls, MN 56241 | (320) 564-6318 | (320) 564-2550

6. Navajo Region

Navajo Regional Director, Navajo Regional Office, PO Box 1060, Gallup, NM 87305; Phone: (505) 863-8314; Fax: (505) 863-8324.

Tribe | ICWA POC | Mailing address | Telephone No. | Fax No.
Navajo Nation, Arizona, New Mexico & Utah | Crescentia Tso OR Lillian Reed, Principle Social Workers, crescentiatso@navajo-nsn.gov | Navajo Indian Child Welfare Act Program, P.O. Box 1930, Window Rock, AZ 86515 | (928) 928-6806 | (928) 871-7667

7. Northwest Region

Northwest Regional Director, 911 NE 11th Avenue, Portland, OR 97232; Phone: (503) 231-6702; Fax (503) 231-2201.

Tribe | ICWA POC | Mailing address | Telephone No. | Fax No.
Burns Paiute Tribe | Jim St Martin, ICWA Social Worker | 100 Pasigo Street, Burns, OR 97720 | (541) 573-8005 | (541) 573-2323
Coeur D'Alene Tribe | Charles Henry, ICW Program Manager, chenry@cdatribe-nsn.gov | P.O. Box 408, Plummer, ID 83851 | (208) 686-2071 | (208) 686-2059
Confederated Salish and Kootenai Tribes of the Flathead Reservation | Lena Tewawina, ICW Caseworker, lena.tewawina@cskt.org | P.O. Box 278 , Pablo, MT 59821 | (406) 675-2700 |
Confederated Tribes and Bands of the Yakama Nation | Jessica Rammelsberg, Assistant Prosecutor, Jessica_Rammelsberg@yakama.com JessicaRammelsberg@yakama.com | P.O. Box 151, Toppenish, WA 98948 | (509) 865-5121 | (509) 865-8936
Confederated Tribes of Siletz Indians of Oregon | Arthur Fisher and Cheryl Duprau, Staff Attorney and ICW Manager, arthurf@ctsi.nsn.us | P.O. Box 549, Siletz, OR 97380 | (541) 444-8324 | (541) 444-2307
Confederated Tribes of the Chehalis Reservation | Francis Pickernell, Director of Social Services, fpickernell@chehalistribe.org | P.O. Box 536, Oakville, WA 98568 | (360) 709-1754 | (360) 273-5207
Confederated Tribes of the Colville Reservation | Buffy Nicholson, Children and Family Services Director, buffy.nicholson@colvilletribes.com | P.O. Box 150, Nespelem, WA 99155 | (509) 634-2764 | (509) 634-2633
Confederated Tribes of the Coos, Lower Umpqua and Siuslaw Indians | Shayne Platz and Vicki Faciane, Lead ICWA Case Mgr and Director of Family Support & Behavioral Health Services, splatz@ctclusi.org | 1245 Fulton Ave, Coos Bay, OR 97420 | (541) 297-3450 | (541) 304-2180
Confederated Tribes of the Grand Ronde Community of Oregon | Donna Johnson, ICWA Intake, donna.johnson@grandronde.org | 9615 Grand Ronde Road, Grand Ronde, OR 97347 | (503) 879-4529 | (503) 879-2142
Confederated Tribes of the Umatilla Indian Reservation | M. Brent Leonhard, Attorney, brentleonhard@ctuir.org | 46411 Timine Way, Pendleton, OR 97801 | (541) 429-7406 |
Confederated Tribes of the Warm Springs Reservation of Oregon | Lisa Lomas and Cecelia Collins, Chief Judge and CPS Director, lisa.loma@wstribes.org | P.O. Box 850, Warm Springs, OR 97761 | (541) 553-3278 | (541) 553-3281
Coquille Indian Tribe | Roni Jackson, ICWA Caseworker, ronijackson@coquilletribe.org | 600 Miluk Drive, P.O. Box 3190, Coos Bay, OR 97420 | (541) 888-9494 | (541) 888-0673
Cow Creek Band of Umpqua Tribe of Indians | Michele Moore, Human Services Director, mmoore@cowcreek.com | 2371 NE Stephens Street, Ste. 100, Roseburg, OR 97470 | (541) 643-8241 | (541) 677-5565
Cowlitz Indian Tribe | D.J. Personius, ICW Case Manager, dpersonius.health@cowlitz.org | 15455 65th Ave. S., Tukwila, WA 98188 | (206) 491-9266 | (206) 721-6288
Hoh Indian Tribe | Lola Moses, Family Services Manager, lola.moses@hohtribe-nsn.org | P.O. Box 2196, Forks, WA 98331 | (360) 374-5037 | (360) 374-5426
Jamestown S'Klallam Tribe | Colleen Studinarz, Adminstrative Supervisor Social & Community Services, cstudinarz@jamestowntribe.org | Social and Community Services, 1033 Old Blyn Hwy, Sequim, WA 98382 | (360) 582-5785 | (360) 681-3402
Kalispel Indian Community of the Kalispel Reservation | Shawna Brady, MSW, sbrady@camashealth.com | 934 S Garfield Road, Airway Heights, WA 99001 | (509) 789-7630 | (509) 789-7675
Klamath Tribes | Lisa Ruiz, Children & Family Service Program Manager, Lisa.ruiz@klamathtribes.com | P.O. Box 436, Chiloquin, OR 97624 | (541) 783-2219 | (541) 783-7783
Kootenai Tribe of Idaho | Desire Aitken, Treasurer, desire@kootenai.orgdesire@kootenai.org | P.O. Box 1269, Bonners Ferry, ID 83805 | (208) 267-3519 | (208) 267-2960
Lower Elwha Tribal Community | Rebecca Sampson-Weed, Social Services Director, elwhaicw@elwha.org | 3080 Lower Elwha Road, Port Angeles, WA 98363 | (360) 461-7033 | (866) 277-3141
Lummi Tribe of the Lummi Reservation | Denise Jefferson, ICWA Manager, denisej@lummi-nsn.govdenisej@lummi-nsn.gov | P.O. Box 1024, Ferndale, WA 98248 | (360) 384-2324 | (360) 384-2341
Makah Indian Tribe of the Makah Indian Reservation | Michelle Claplanpoo, Lead ICW Caseworker, michelle.claplanhoo@makah.com | P.O. Box 115, Neah Bay, WA 98357 | (360) 645-3044 | (360) 645-2685
Muckleshoot Indian Tribe | Alexandria Cruz-James, Director of Human Services, alex.cruz@muckleshoot.nsn.us | 39015 172nd Avenue SE, Auburn, WA 98092 | (253) 876-3261 | (253) 886-8801
Nez Perce Tribe | Joni Williams, ICW Director, joniw@nezperce.org | P.O. Box 365, Lapwai, ID 83540 | (208) 621-4709 | (208) 843-9401
Nisqually Indian Tribe | Lorraine Van Brunt, Child and Family Services Manager, Vanbrunt.lorraine@nisqually-nsn.gov | 4820 She-Nah-Num Drive SE, Olympia, WA 98513 | (360) 456-5221 | (360) 486-9555
Nooksack Indian Tribe | Katrice Rodriguez, Youth & Family Services Director, krodriguez@nooksack-nsn.gov | P.O. Box 157, Deming, WA 98244 | (360) 306-5090 | (360) 592-0167
Northwestern Band of the Shoshone Nation | Patty Timbimboo-Madsen, ICWA Manager, ptimbimboo@nwbshoshone.com | Enrollment Department, 707 North Main, Brigham City, UT 84302 | (435) 734-2286 | (435) 723-6320
Port Gamble S'Klallam Tribe | Cheryl Miller, Children and Family Services Director, cmiller@pgst.nsn.us | 31912 Little Boston Road NE, Kingston, WA 98346 | (360) 297-9665 | (360) 297-9666
Puyallup Tribe of the Puyallup Reservation | Sandra Cooper and Marriah Betschart, ICW Tribal/State Liaison/ICWA Liaison | 3009 E Portland Avenue, Tacoma, WA 98404 | (253) 405-7544 | (253) 680-5998
Quileute Tribe of the Quileute Reservation | Charlene Meneely, ICW Program Manager, charlene.meneely@quileutetribe.com | P.O. Box 279, LaPush, WA 98350 | (360) 640-2428 | (360) 374-7796
Quinault Indian Nation | Amelia DeLaCruz and Dawnadair Lewis-Raincloud, Social Services Manager and ICW Manager, icw@quinault.org | P.O. Box 189, Taholah, WA 98587 | (360) 276-8211 | (360) 276-4152
Samish Indian Nation | Caritina Gonzalez, Social Services Director, cgonzalez@samishtribe.nsn.us | Samish Nation Social Services, 715 Seafarer's Way, Ste 103, Anacortes, WA 98221 | (360) 298-6431 | (360) 299-4357
Sauk-Suiattle Indian Tribe | April McConnaughy, ICW Family Services Specialist, icwa@sauk-suiattle.com | 5318 Chief Brown Lane, Darrington, WA 98241 | (360) 436-2204 |
Shoalwater Bay Indian Tribe of the Shoalwater Bay Indian Reservation | Katherine Horne, Director, khorne@shoalwaterbay-nsn.gov | P.O. Box 130, Tokeland, WA 98590 | (360) 267-8134 | (360) 267-0247
Shoshone-Bannock Tribes of the Fort Hall Reservation | Brandelle Whitworth, ICWA Designated Agent Office of General Counsel bwhitworth@sbtribes.com | Office of General Counsel, P.O. Box 306, Fort Hall, ID 83203 | (208) 478-3822 | (208) 237-9736
Skokomish Indian Tribe | Denese LaClair, Health Director, dlaclair@skokomish.org | 100 N Tribal Center Road, Skokomish, WA 98584 | (360) 426-5755 | (360) 877-2399
Snoqualmie Indian Tribe | Carlee Gorman, SICW Program Manager, carlee@snoqualmietribe.us | P.O. Box 969, Snoqualmie, WA 98065 | (425) 888-6551 | (425) 689-1272
Spokane Tribe of the Spokane Reservation | Ricki Peone, Health & Human Services Director, Tawhnee Colvin, Health & Human Services Assistant Director, ricki.peone@spokanetribe.com | P.O. Box 540, Wellpinit, WA 99040 | (509) 258-7502 | (509) 258-4480
Squaxin Island Tribe of the Squaxin Island Reservation | Charlene Abrahamson, Family Service Director, Adirian Albillar, ICW Manager, cabrahamson@squaxin.us | 10 SE Squaxin Lane, Shelton, WA 98584-9200 | (360) 432-3914 | (360) 427-2652
Stillaguamish Tribe of Indians of Washington | Candy Hamilton, ICW Director, icw@stillaguamish.comicw@stillaguamish.com | P.O. Box 3782, Arlington, WA 98223 | (360) 572-3460 | (360) 925-2862
Suquamish Indian Tribe of the Port Madison Reservation | Nehreen Ayub, Acting Human Services Director, nayub@suquamish.nsn.us | P.O. Box 498, Suquamish, WA 98392 | (360) 394-8479 | (360) 697-6774
Swinomish Indian Tribal Community | Tracy Parker, Swinomish Family Services Coordinator, tparker@swinomish.nsn.us | 17337 Reservation Rd, LaConner, WA 98257 | (360) 466-7222 | (360) 466-1632
Tulalip Tribes of Washington | Natasha Fryberg and Jennifer Walls, Manager and Lead ICW Worker, nfryberg@tulaliptribes-nsn.gov | 2828 Mission Hill Road, Tulalip, WA 98271 | (360) 716-4059 | (360) 716-0750
Upper Skagit Indian Tribe | Felice Keegahn, Indian Child Welfare Coordinator, felicek@upperskagit.com | 25944 Community Plaza Way, Sedro Woolley, WA 98284 | (360) 854-7077 | (360) 854-7125

8. Pacific Region

Pacific Regional Director, BIA, Federal Building, 2800 Cottage Way, Room W-2820, Sacramento, CA 95825; Phone: (916) 978-6000; Fax: (916) 978-6099.

Tribe | ICWA POC | Mailing address | Telephone No. | Fax No.
Agua Caliente Band of Cahuilla Indians of the Agua Caliente Indian Reservation, California | Jeff Grubbe, Chairman, jplata@aguacaliente.net | 5401 Dinah Shore Drive, Palm Springs, CA 92264 | (760) 699-6919 | (760) 699-6863
Alturas Indian Rancheria, California | Phillip Del Rosa, Air530@yahoo.com | P.O. Box 340, Alturas, CA 96101 | (541) 941-2324 | (530) 223-4165
Augustine Band of Cahuilla Indians, California | Heather Haines, Tribal Operations Manager, hhaines@augustinetribe.com | P.O. Box 846, Coachella, CA 92236 | (760) 398-4722 | (760) 368-4252
Bear River Band of the Rohnerville Rancheria, California | Josefina Cortez, Chairwoman, josefinacortez@brb-nsn.gov | 266 Keisner Rd., Loleta, CA 95551 | (707) 502-8731 | (707) 875-7229
Berry Creek Rancheria of Maidu Indians of California | Maria Ramirez, ICWA Director & Tribal Representative, mramirez@berrycreekrancheria.com | 5 Tyme Way, Oroville, CA 95966 | (530) 534-3859 | (530) 534-0343
Big Lagoon Rancheria, California | Virgil Moorehead, Chairperson, vmoorehead@earthlink.net | P.O. Box 3060, Trinidad, CA 95570 | (707) 826-2079 | (707) 826-0495
Big Pine Paiute Tribe of the Owens Valley | info@bigpinepaiute.org | P.O. Box 700, Big Pine, CA 93513 | (760) 938-2003 | (760) 938-2942
Big Sandy Rancheria of Western Mono Indians of California | Tamara Hiebert, ICWA Representative, bsricwa@bsrnation.com | P.O. Box 337, Auberry, CA 93602 | (559) 374-0066 |
Big Valley Band of Pomo Indians of the Big Valley Rancheria, California | ICWA Representative, resparza@big-valley.net | ICWA, 2726 Mission Rancheria Road, Lakeport, CA 95453 | (707) 263-3924 | (707) 533-2941
Bishop Paiute Tribe | Tammy Andrade, ICWA Specialist, tammy.andrade@bishoppaiute.org | 50 TuSu Lane, Bishop, CA 93514 | (760) 873-7799 | (760) 873-3529
Blue Lake Rancheria, California | Claudia Brundin, Chairperson, lalbright@bluelakerancheria-nsn.gov | P.O. Box 428, Blue Lake, CA 95525 | (707) 668-5101 | (707) 668-4272
Bridgeport Indian Colony | John Glazier, Tribal Chair, chair@bridgeportindiancolony.com | 355 Sage Brush Drive, Bridgeport, CA 93517 | (760) 932-7083 | (760) 932-7846
Buena Vista Rancheria of Me-Wuk Indians of California | Christina Pimental, Receptionist, christina@BuenaVistaTribe.com | 1418 20th Street, Suite #200, Sacramento, CA 95811 | (916) 491-0011 | (916) 491-0012
Cabazon Band of Mission Indians, California | Doug Welmas, Chairman, nmarkwardt@cabazonindians-nsn.gov | 84-245 Indio Springs Parkway, Indio, CA 92203 | (760) 342-2593 | (760) 347-7880
Cachil DeHe Band of Wintun Indians of the Colusa Indian Community of the Colusa Rancheria, California | Yvonne Page, Counselor, ypage@colusa-nsn.gov | 3730 Highway 45, Colusa, CA 95932 | (530) 458-6571 | (530) 458-8061
Cahto Tribe of the Laytonville Rancheria | Mary J. Norris, Chairperson, chairman@cahto.org | P.O. Box 1239, Laytonville, CA 95454 | (707) 984-6197 | (707) 984-6201
Cahuilla Band of Indians | Lisa Mariano, Social Worker, Socialworker@cahuilla.net | 52701 Hwy. 371, Anza, CA 92539 | (951) 795-8672 | (951) 763-2808
California Valley Miwok Tribe, California | DOI/Bureau of Indian Affairs | Pacific Regional Office, 2800 Cottage Way, Rm. W-2820, Sacramento, CA 95825 | (916) 978-6000 | (916) 978-6099
Campo Band of Diegueno Mission Indians of the Campo Indian Reservation, California | Indian Child Social Services Director | 4058 Willow Road, Alpine, CA 91901 | (619) 445-1188 | (619) 659-3144
Capitan Grande Band of Diegueno Mission Indians of California (Barona Group of Capitan Grande Band of Mission Indians of the Barona Reservation, California) | Indian Child Social Services, counciloffice@barona-nsn.gov | 1095 Barona Road, Lakeside, CA 92040 | (619) 443-6612 | (619) 443-0681
Capitan Grande Band of Diegueno Mission Indians of California: Viejas (Baron Long) Group of Capitan Grande Band of Mission Indians of the Viejas Reservation, California | John Christman, Chairman | P.O. Box 908, Alpine, CA 91901 | (619) 445-3810 |
Cedarville Rancheria, California | Richard Lash, Chairperson, cr.munholand@gmail.com | 300 West 1st Street, Alturas, CA 96101 | (530) 233-3969 | (530) 233-4776
Cher-Ae Heights Indian Community of the Trinidad Rancheria, California | Amy Atkins, Executive Manager, aatkins@trinidadrancheria.com | P.O. Box 630, Trinidad, CA 95570 | (707) 677-0211 | (707) 677-3921
Chicken Ranch Rancheria of Me-Wuk Indians of California | Lloyd Mathiesen, Chairman, chixrnch@mlode.com | P.O. Box 1159, Jamestown, CA 95327 | (209) 984-9066 | (209) 984-5606
Cloverdale Rancheria of Pomo Indians of California | Patricia Mermosillo, Chairperson | 555 S Cloverdale Blvd., Cloverdale, CA 95425 | (707) 894-5775 | (707) 894-5727
Cold Springs Rancheria of Mono Indians of California | Helena Alarcon, Chairperson | P.O. Box 209, Tollhouse, CA 93667 | (559) 855-5043 | (559) 855-4445
Coyote Valley Band of Pomo Indians of California | Liz Elgin DeRouen, Executive Director, liz@icfpp.net | 2525 Cleveland Ave, Ste. H, Santa Rosa, CA 95403 | (707) 463-2644 | (707) 463-8956
Dry Creek Rancheria Band of Pomo Indians, California | Liz Elgin DeRouen, Executive Director, liz@icfppp.net | 2525 Cleveland Avenue, Ste. H, Santa Rosa, CA 95403 | (707) 463-2644 | (707) 463-8956
Elem Indian Colony of Pomo Indians of the Sulphur Bank Rancheria, California | Augustin Garcia, Chairperson, a.garcia@elemindiancolony.org | P.O. Box 757, Lower Lake, CA 95457 | (707) 994-3400 | (707) 994-3408
Elk Valley Rancheria, California | Dale Miller, Chairman, swoods@elk-valley.com | 2332 Howland Hill Rd, Crescent City, CA 95531 | (707) 464-4680 | (707) 464-4519
Enterprise Rancheria of Maidu Indians of California | Shari Ghalayini, ICWA Representative, sharig@enterpriserancheria.org | 2133 Montevista Ave, Oroville, CA 95966 | (530) 532-9214 | (530) 532-1768
Ewiiaapaayp Band of Kumeyaay Indians, California | Indian Child Social Services Director | Southern Indian Health Council, Inc., 4058 Willows Road, Alpine, CA 91901 | (619) 445-1188 | (619) 659-3144
Federated Indians of Graton Rancheria, California | Greg Sarris, Chairman | 6400 Redwood Drive, Ste. #300, Rohnert Park, CA 94928 | (707) 566-2288 | (707) 566-2291
Fort Bidwell Indian Community of the Fort Bidwell Reservation of California | Kevin Dean Townsend, Chairman, liz.zendejas@fbicc.com | P.O. Box 129, Fort Bidwell, CA 96112 | (530) 279-6310 | (530) 279-2233
Fort Independence Indian Community of Paiute Indians of the Fort Independence Reservation, California | Norman Wilder, Chairperson, receptionist@fortindependence.com | P.O. Box 67, Independence, CA 93526 | (760) 878-5160 | (760) 878-2311
Greenville Rancheria | Patty Allen, ICWA Coordinator, pallen@greenvillerancheria.com | P.O. Box 279, Greenville, CA 95947 | (530) 284-7990 | (530) 284-7299
Grindstone Indian Rancheria of Wintun-Wailaki Indians of California | Ronald Kirk, Chairman, girrancheria@yahoo.com | ICWA, P.O. Box 63, Elk Creek, CA 95939 | (530) 968-5365 | (530) 968-5366
Guidiville Rancheria of California | Merlene Sanchez, Tribal Chairperson, admin@guidiville.net | P.O. Box 339, Talmage, CA 95481 | (707) 462-3682 | (707) 462-9183
Habematolel Pomo of Upper Lake, California | Sherry Treppa, Chairperson, aarroyosr@hpultribe-nsn.gov | P.O. Box 516, Upper Lake, CA 95485 | (707) 275-0737 | (707) 275-0757
Hoopa Valley Tribe, California | Ryan Jackson, Chairperson, hoopa.receptionist@gmail.com | P.O. Box 1348, Hoopa, CA 95546 | (530) 625-4211 | (530) 625-4594
Hopland Band of Pomo Indians, California | Josephine Loomis, ICWA Social Case Manager, jloomis@hoplandtribe.com | 3000 Shanel Rd., Hopland, CA 95449 | (707) 472-2100 | (707) 744-8643
Iipay Nation of Santa Ysabel, California | Social Services Director, lipayinfo@yahoo.com | Santa Ysabel Social Services Dept., P.O. Box 701, Santa Ysabel, CA 92070 | (760) 765-1106 | (760) 765-0312
Inaja Band of Diegueno Mission Indians of the Inaja and Cosmit Reservation, California | Social Services Manager, kkolb@indianhealth.com | Indian Health Council, Inc., P.O. Box 406, Pauma Valley, CA 92061 | (760) 749-1410 | (760) 749-5518
Ione Band of Miwok Indians of California | Sara A. Dutschke, Chairperson, info@ionemiwok.net | P.O. Box 699, Plymouth, CA 95669 | (209) 245-5800 | (209) 245-6377
Jackson Band of Miwuk Indians | Adam Dalton, Chairperson, mmorla@jacksoncasino.com | P.O. Box 1090, Jackson, CA 95642 | (209) 223-1935 | (209) 223-5366
Jamul Indian Village of California | Indian Child Social Services Director | Southern Indian Health Council, Inc., 4058 Willow Rd., Alpine, CA 91901 | (619) 445-1188 | (619) 659-3144
Karuk Tribe | Joseph E. Snapp, MSW, LCSW, Karuk Child Welfare Administrator, joesnapp@karuk.us | P.O. Box 1207, Yreka, CA 96097 | (530) 841-3141 | (503) 841-7107
Kashia Band of Pomo Indians of the Stewarts Point Rancheria, California | Liz Elgin DeRouen, Executive Director, liz@icfpp.net | 2525 Cleveland Avenue, Ste. H, Santa Rosa, CA 95403 | (707) 463-2644 | (707) 463-8956
Kletsel Dehe Band of Wintun Indians | Charlie Wright, Chairperson, cww281@gmail.com | P.O. Box 1630, Williams, CA 95987 | (530) 473-3274 | (530) 473-3301
Koi Nation of Northern California | Darin Beltran, Chairperson | P.O. Box 3162, Santa Rosa, CA 95402 | (707) 575-5586 | (707) 575-5506
La Jolla Band of Luiseno Indians, California | Social Services Manager, kkolb@indianhealth.com | Indian Health Council, Inc., P.O. Box 406, Pauma Valley, CA 92061 | (760) 749-5518 | (707) 749-5518
La Posta Band of Diegueno Mission Indians of the La Posta Indian Reservation, California | Indian Child Social Services Director | Southern Indian Health Council Inc., 4058 Willow Rd., Alpine, CA 91901 | (619) 445-1188 | (619) 659-3144
Lone Pine Paiute-Shoshone Tribe | Richard Button & Kathy Brancroft, Chairperson & Enrollment Committee Chairperson, chair@lppsr.org | P.O. Box 747, Lone Pine, CA 93545 | (760) 876-1034 | (760) 876-4500
Los Coyotes Band of Cahuilla & Cupeno Indians, California | Social Services Manager, kkolb@indianhealth.com | Indian Health Council, Inc., P.O. Box 406, Pauma Valley, CA 92061 | (760) 749-1410 | (760) 749-5518
Lytton Rancheria of California | Liz Elgin DeRouen, Executive Director, liz@icfpp.net | 2525 Cleveland Avenue, Ste. H, Santa Rosa, CA 95403 | (707) 463-2644 | (707) 463-8956
Manchester Band of Pomo Indians of the Manchester Rancheria, California | Liz Elgin DeRouen, Executive Director, liz@icfpp.net | 2525 Cleveland Avenue, Ste. H, Santa Rosa, CA 95403 | (707) 463-2644 | (707) 463-8956
Manzanita Band of Diegueno Mission Indians of the Manzanita Reservation, California | Angela Elliott-Santos, Chairperson, ljbirdsinger@aol.com | P.O. Box 1302, Boulevard, CA 91905 | (619) 766-4930 | (619) 766-4957
Mechoopda Indian Tribe of Chico Rancheria, California | Dennis Ramirez, Chairman, mit@mechoopda-nsn.gov | 125 Mission Ranch Blvd, Chico, CA 95926 | (530) 899-8922 | (530) 899-8517
Mesa Grande Band of Diegueno Mission Indians of the Mesa Grande Reservation, California | Social Services Manager, kkolb@indianhealth.com | Indian Health Council, Inc., P.O. Box 406, Pauma Valley, CA 92061 | (760) 749-1410 | (760) 749-5518
Middletown Rancheria of Pomo Indians of California | Marty Comito, ICWA Director, mcomito@middletownrancheria.com | P.O. Box 1035, Middletown, CA 95461 | (707) 987-8288 | (707) 987-9091
Mooretown Rancheria of Maidu Indians of California | Benjamin Clark, Chairman, lwinner@mooretown.org | 1 Alverda Drive, Oroville, CA 95966 | (530) 533-3625 | (530) 533-3680
Morongo Band of Mission Indians, California | Legal Department, legal@morongo-nsn.gov | 12700 Pumarra Road, Banning, CA 92220 | (951) 572-6016 | (951) 572-6108
Northfork Rancheria of Mono Indians of California | Elaine Bethel Fink & Tawanish Lavell, Chairperson & ICWA Representative, nfrancheria@northforkrancheria-nsn.gov | P.O. Box 929, North Fork, CA 93643 | (559) 877-2461 | (559) 877-2467
Pala Band of Mission Indians | Robert Smith, Chairman, morozco@palatribe.com | 35008 Pala-Temecula Road—PMB-50, Pala, CA 92059 | (760) 891-3500 | (760) 891-3587
Paskenta Band of Nomlaki Indians of California | Natasha Magana, Tribal Member at Large, office@paskenta.org | P.O. Box 709, Corning, CA 96021 | (530) 528-3538 | (530) 528-3553
Pauma Band of Luiseno Mission Indians of the Pauma & Yuima Reservation, California | Social Services Manager, kkolb@indianhealth.com | Indian Health Council, Inc., P.O. Box 406, Pauma Valley, CA 92061 | (760) 749-1410 | (760) 749-5518
Pechanga Band of Luiseno Mission Indians of the Pechanga Reservation, California | Mark Macarro, Chairman, cfs@pechanga-nsn.gov | P.O. Box 1477, Temecula, CA 92593 | (951) 770-6105 | (951) 695-1778
Picayune Rancheria of Chukchansi Indians of California | Orianna C. Walker, ICWA Coordinator, orianna.walker@chukchansi.net | P.O. Box 2146, Oakhurst, CA 93644 | (559) 412-5590 | (559) 440-6494
Pinoleville Pomo Nation, California | Clayton Freeman, ICWA Coordinator, clayton@pinoleville-nsn.gov | 500 B Pinoleville Drive, Ukiah, CA 95482 | (707) 463-1454 | (707) 463-6601
Pit River Tribe, California | Percy Tejada, ICWA Coordinator, icwa@pitrivertribe.org | 36970 Park Avenue, Burney, CA 96013 | (530) 335-5421 | (530) 335-3140
Potter Valley Tribe, California | Salvador Rosales, Chairman, pottervalleytribe@pottervalleytribe.com | 2251 South State Street, Ukiah, CA 95482 | (707) 462-1213 | (707) 462-1240
Quartz Valley Indian Community of the Quartz Valley Reservation of California | Conrad Croy, ICWA Director, Conrad.Croy@qvir-nsn.gov | 13601 Quartz Valley Rd., Fort Jones, CA 96032 | (530) 468-5907 | (530) 468-5908
Ramona Band of Cahuilla, California | Joseph Hamilton, Chairman | P.O. Box 391670, Anza, CA 92539 | (951) 763-4105 | (951) 763-4325
Redding Rancheria, California | Jack Potter, Jr., Chairman, hopew@redding-rancheria.com | 2000 Redding Rancheria Road, Redding, CA 96001 | (530) 225-8979 |
Redwood Valley or Little River Band of Pomo Indians of the Redwood Valley Rancheria California | Chris Piekarski, ICWA Coordinator, icwa@rvrpomo.net | 3250 Road I, “B” Building, Redwood Valley, CA 95470 | (707) 485-0361 | (707) 485-5726
Resighini Rancheria, California | Fawn Murphy, Chairperson, fawn.murphy@resighinirancheria.com | P.O. Box 529, Klamath, CA 95548 | (707) 482-2431 | (707) 482-3425
Rincon Band of Luiseno Mission Indians of the Rincon Reservation, California | Social Services Manager, kkolb@indianhealth.com | Indian Health Council, Inc., P.O. Box 406, Pauma Valley, CA 92061 | (760) 749-1410 | (760) 749-5518
Robinson Rancheria | Marsha Lee, ICWA Coordinator | P.O. Box 4015, Nice, CA 95464 | (707) 900-1456 | (707) 275-0235
Round Valley Indian Tribes, Round Valley Reservation, California | James Russ, President, president@council.rvit.org | 77826 Covelo Road, Covelo, CA 95428 | (707) 983-6126 | (707) 983-6128
San Manuel Band of Mission Indians, California | Tribal Secretary, broberson@sanmanual-nsn.gov | 26569 Community Center Drive, Highland, CA 92346 | (909) 864-8933 | (909) 864-0890
San Pasqual Band of Diegueno Mission Indians of California | Social Services Manager, kkolb@indianhealth.com | Indian Health Council, Inc., P.O. Box 406, Pauma Valley, CA 92061 | (760) 749-1410 | (760) 749-5518
Santa Rosa Band of Cahuilla Indians, California | Steven Estrada, Chairperson, srtribaloffice@aol.com | P.O. Box 391820, Anza, CA 92539 | (951) 659-2700 | (951) 689-2228
Santa Rosa Indian Community of the Santa Rosa Rancheria, California | Luz M. Rodrigues (Primary) and Leo Sisco (Secondary), Tribal Social Services Director/Tribal Chairman, lrodrigues@tachi-yokut-nsn.gov | P.O. Box 8, Lemoore, CA 93245 | (559) 924-1278 | (559) 925-2947
Santa Ynez Band of Chumash Mission Indians of the Santa Ynez Reservation, California | Caren Romero, ICWA, info@sybmi.org | 90 Via Juana Lane, Santa Ynez, CA 93460 | (805) 688-7997 | (805) 686-9578
Scotts Valley Band of Pomo Indians of California | Kathy Russ, ICWA Advocate | 1005 Parallel Drive, Lakeport, CA 95453 | (707) 263-4220 | (707) 263-4345
Sherwood Valley Rancheria of Pomo Indians of California | Melanie Rafanan and Travis Wright, Tribal Chairperson and ICWA Advocate, mrafanan@sherwoodband.com | 190 Sherwood Hill Drive, Willits, CA 95490 | (707) 459-9690 | (707) 459-6936
Shingle Springs Band of Miwok Indians, Shingle Springs Rancheria (Verona Tract), California | Regina Cuellar, Chairwoman, tribalchairperson@ssband.org | P.O. Box 1340, Shingle Springs, CA 95682 | (530) 698-1400 | (530) 384-8064
Soboba Band of Luiseno Indians, California | Alicia Golchuk, Director of Soboba Tribal Family Services, agolchuk@soboba-nsn.gov | Soboba Tribal Family Services Dept., P.O. Box 487, San Jacinto, CA 92581 | (951) 487-0283 | (951) 487-1738
Susanville Indian Rancheria, California | Deana M. Bovee, Tribal Chairwoman, dbovee@sir-nsn.gov | 745 Joaquin St., Susanville, CA 96130 | (530) 257-6264 | (530) 257-7986
Sycuan Band of the Kumeyaay Nation | Cody Martinez, Chairman | 1 Kwaaypaay Court, El Cajon, CA 92019 | (619) 445-2613 | (619) 445-1927
Table Mountain Rancheria | Leanne Walker-Grant, Chairperson | P.O. Box 410, Friant, CA 93626 | (559) 822-2587 | (559) 822-2693
Tejon Indian Tribe | Octavio Escobedo, Chairperson, office@tejontribe.net | 1731 Hasti Acres, Ste. 108, Bakersfield, CA 93309 | (661) 834-8566 | (661) 834-8564
Timbisha Shoshone Tribe | Wallace Eddy, ICWA Representative, icwa@timbisha.com | 621 West Line Street, Ste. 109, Bishop, CA 93514 | (760) 872-3614 | (760) 872-3670
Tolowa Dee-ni' Nation | Dorothy Wait, CFS Director, dwait@tolowa.com | Community & Family Services, 16299 Hwy. 101N, Smith River, CA 95567 | (707) 487-9255 | (707) 487-0137
Torres Martinez Desert Cahuilla Indians, California | Thomas Tortez, Chairman, thomas.tortez@torresmartinez-nsn.gov | P.O. Box 1160, Thermal, CA 92274 | (760) 397-0300 | (760) 397-8300
Tule River Indian Tribe of the Tule River Reservation, California | Neil Peyron, Chairman, Neil.Peyron@tulerivertribe-nsn.gov | P.O. Box 589, Porterville, CA 93258 | (559) 781-4271 | (559) 781-4610
Tuolumne Band of Me-Wuk Indians of the Tuolumne Rancheria of California | Diane Carpenter, LMFT, ICWA Representative/Supervisor, Social Services Department, diana@mewuk.com | P.O. Box 699, Tuolumne, CA 95379 | (209) 928-5327 | (209) 928-1552
Twenty-Nine Palms Band of Mission Indians of California | Darrel Mike, Spokesman | P.O. Box 2269, Coachella, CA 92236 | (760) 863-2444 | (760) 863-2449
United Auburn Indian Community of the Auburn Rancheria of California | Gene Whitehouse, Chairman, jbeck@auburnrancheria.com | 10720 Indian Hill Road, Auburn, CA 95603 | (530) 883-2390 | (530) 833-2380
Utu Utu Gwaitu Paiute Tribe of the Benton Paiute Reservation, California | Shane Salque, Chairman, shanesalque@hotmail.com | 25669 Hwy. 6 PMB 1, Benton, CA 93512 | (760) 933-2321 | (760) 933-2412
Wilton Rancheria, California | Vanessa Pady, Director, vpady@wiltonrancheria-nsn.gov | ICWA, 9728 Kent Street, Elk Grove, CA 95624 | (916) 683-6000 | (916) 683-6015
Wiyot Tribe, California | Theodore Hernandez, Chairperson, michelle@wiyot.us | 1000 Wiyot Drive, Loleta, CA 95551 | (707) 733-5055 | (707) 733-5601
Yocha Dehe Wintun Nation, California | James Kinter, Tribal Council Secretary, djones@yochadehe-nsn.gov | P.O. Box 18, Brooks, CA 95606 | (530) 796-3400 | (530) 796-2143
Yurok Tribe of the Yurok Reservation, California | Alita Redner, Child and Family Indian Child Welfare Director, YurokICWA@yuroktribe.nsn.us | P.O. Box 1027, Klamath, CA 95548 | (707) 482-1350 | (707) 482-1368

9. Rocky Mountain Region

Rocky Mountain Regional Director, 2021 4th Avenue N, Billings, MT 59101; Phone: (406) 247-7943; Fax: (406) 247-7976.

Tribe | ICWA POC | Mailing address | Telephone No. | Fax No.
Arapaho Tribe of the Wind River Reservation, Wyoming | Shelley Mbonu, ICWA Director, shelley.mbonu@northernarapaho.com | P.O. Box 951, Riverton, WY 82501 | (307) 335-3957 | (307) 463-4182
Assiniboine & Sioux Tribes of the Fort Peck Indian Reservation, Montana | Ingrid Firemoon, ICWA Coordinator, ifiremoon@fortpecktribes.net | P.O. Box 1027, Poplar, MT 59255 | (406) 768-2308 | (406) 768-5658
Blackfeet Tribe of the Blackfeet Indian Reservation of Montana | Kathy Calf Boss Ribs, ICWA Coordinator, kathybossribs@yahoo.com | P.O. Box 588, Browning, MT 59417 | (406) 338-5171 | (406) 338-7726
Chippewa Cree Indians of the Rocky Boy's Reservation, Montana | Shaneen Raining Bird Hammond, ICWA Case Manager, icwa@cct.rockyboy.org | 96 Clinic Road No., Box Elder, MT 59521 | (406) 262-8093 | (406) 395-5702
Crow Tribe of Montana | Kerrera Pretty Paint, ICWA Contact, Kerrera.PrettyPaint@crow-nsn.gov | P.O. Box 340, Crow Agency, MT 59022 | (406) 679-3066 | (406) 702-7981
Eastern Shoshone Tribe of the Wind River Reservation, Wyoming | Sara Robinson, ICWA Director, srobinson@easternshoshone.org | P.O. Box 538, Fort Washakie, WY 82514 | (307) 332-6591 | (307) 332-6593
Fort Belknap Indian Community of the Fort Belknap Reservation of Montana | Myron L. Trottier, ICWA Case Manager, mtrottier@ftbelknap.org | 656 Agency Main Street, Harlem, MT 59526 | (406) 353-8328 | (406) 353-4634
Little Shell Tribe of Chippewa Indians of Montana | Gerald Gray | 615 Central Ave. West, Great Falls, MT 59404 | (406) 690-9757 |
Northern Cheyenne Tribe of the Northern Cheyenne Indian Reservation, Montana | Michelle Little Wolf, ICWA Coordinator I, michelle.littlewolf@cheyennenation.com | P.O. Box 128, Lame Deer, MT 59043 | (406) 477-4830 | (406) 477-8333

10. Southern Plains Region

Southern Plains Regional Director, 1 Mile North, Hwy. 281, Anadarko, OK 73005; Phone: (405) 247-6673 Ext. 217; Fax: (405) 247-5611.

Tribe | ICWA POC | Mailing address | Telephone No. | Fax No.
Absentee-Shawnee Tribe of Indians of Oklahoma | Melissa Hill, ICW Director, mhill@astribe.com | 2025 S Gordon Cooper Drive, Shawnee, OK 74801 | (405) 395-4492 | (405) 395-4495
Alabama-Coushatta Tribe of Texas | Melissa Celestine, ICW Director, celestine.melissa@actribe.org | 571 State Park Road, #56, Livingston, TX 77351 | (936) 563-1253 | (936) 563-1254
Apache Tribe of Oklahoma | ICW Director, Apache ICW Worker, icw@kiowatribe.org | P.O. Box 9, Carnegie, OK 73015 | (580) 654-6340 |
Caddo Nation of Oklahoma | Kalina Youngman, ICW Caseworker, kalina.youngman@wichitatribe.com | P.O. Box 729, Anadarko, OK 73005 | (405) 247-8624 |
Cheyenne and Arapaho Tribes, Oklahoma | Ephram Kelly, ICW Coordinator, rfelter@c-a-tribes.org | P.O. Box 27, Concho, OK 73022 | (405) 422-7557 | (405) 422-8249
Citizen Potawatomi Nation, Oklahoma | Ashley May, ICW Director, amay@potawatomi.org | 1601 S Gordon Cooper Drive, Shawnee, OK 74801 | (405) 878-4831 | (405) 878-4659
Comanche Nation, Oklahoma | Evelyn Mithlo-Turner, ICW Director, carolm@comanchenation.com | P.O. Box 908, Lawton, OK 73502 | (580) 280-4751 | (580) 280-4751
Delaware Nation, Oklahoma | Cassandra Acuna, ICW Director, cacuna@delawarenation.com | P.O. Box 825, Anadarko, OK 73005 | (405) 247-2448 | (405) 247-5942
Fort Sill Apache Tribe of Oklahoma | ICWA Coordinator, brian.wahnee@fortsillapache-nsn.gov | 43187 U.S. Highway 281, Apache, OK 73006 | (580) 522-2298 | (580) 588-3133
Iowa Tribe of Kansas and Nebraska | Native American Family Services Inc | 3303 B. Thrasher Rd., White Cloud, KS 66094 | (785) 595-3260 |
Iowa Tribe of Oklahoma | Tamera Hudgins, ICW Director, thudgins@ioesnation.org | Rt. 1, Box 721, Perkins, OK 74059 | (405) 547-2402 | (405) 547-1060
Kaw Nation, Oklahoma | Lebrandia Lamley, ICW Director, llemley@kawnation.com | Drawer 50, Kaw City, OK 74641 | (580) 269-2003 | (580) 269-2113
Kickapoo Traditional Tribe of Texas | ICWA Director | 2212 Rosita Valley Road, Eagle Pass, TX 78852 | (830) 421-6300 |
Kickapoo Tribe of Indians of the Kickapoo Reservation in Kansas | ICWA | 824 111th Dr., Horton, KS 66439 | (785) 486-2131 |
Kickapoo Tribe of Oklahoma | Nathie Wallace, Indian Child Welfare Director | P.O. Box 469, McLoud, OK 74851 | (405) 964-5426 | (405) 964-5431
Kiowa Indian Tribe of Oklahoma | Davetta Geimausaddle, ICW Director, ICW@kiowatribe.org | P.O. Box 369, Carnegie, OK 73015 | (580) 654-2439 | (580) 654-2363
Otoe-Missouria Tribe of Indians, Oklahoma | Andrea Kihega, Social Services Director, akihega@omtribe.org | 8151 Highway 177, Red Rock, OK 74651 | (580) 723-4466 | (580) 723-1016
Pawnee Nation of Oklahoma | Amanda Farren, ICWA Director, afarren@pawneenation.org | P.O. Box 470, Pawnee, OK 74058 | (918) 762-3261 | (918) 762-6449
Ponca Tribe of Indians of Oklahoma | Stephanie Ruminer, ICW Director, ptoicw@gmail.com | 20 White Eagle Drive, Ponca City, OK 74601 | (580) 463-0133 | (580) 763-0134
Prairie Band Potawatomi Nation | Julia Alfers, ICW Director | 16281 Q Road, Mayetta, KS 66509 | (785) 966-8325 | (785) 966-8388
Sac and Fox Nation of Missouri in Kansas and Nebraska | Chasity Davis, ICW Director, cdavis@sacandfoxcasino.com | 305 N Main Street, Reserve, KS 66434 | (785) 742-4708 | (785) 288-1163
Sac and Fox Nation, Oklahoma | Karen Hamilton, ICW Director, karen.hamilton@sacandfoxnation-nsn.gov | 215 North Harrison, Box 246, Shawnee, OK 74801 | (918) 968-3526 | (405) 395-0858
Tonkawa Tribe of Indians of Oklahoma | Christi Gonzalez, ICW Director, cgonzalez@tonkwatribe.com | P.O. Box 70, Tonkawa, OK 74653 | (580) 628-7025 | (580) 628-7025
Wichita and Affiliated Tribes (Wichita, Keechi, Waco & Tawakonie), Oklahoma | Joan Williams, ICW Director, joan.williams@wichitatribe.com | P.O. Box 729, Anadarko, OK 73005 | (405) 247-8627 | (405) 247-3256

11. Southwest Region

Southwest Regional Director, 1001 Indian School Road NW, Albuquerque, NM 87104; Phone: (505) 563-3103; Fax: (505) 563-3101.

Tribe | ICWA POC | Mailing address | Telephone No. | Fax No.
Jicarilla Apache Nation, New Mexico | Gina Keeswood, ICWA Specialist, gkeeswood@jbhd.org | P.O. Box 120, Dulce, NM 87528 | (575) 759-1712 | (575) 759-3757
Kewa Pueblo, New Mexico | Virginia Tenorio & Doris Mina, Family Services Director & ICWA Representative, vtenorio@kewa-nsn.us | P.O. Box 129, Santo Domingo, NM 87052 | (505) 465-0630 | (505) 465-2554
Mescalero Apache Tribe of the Mescalero Reservation, New Mexico | Augusta Williams, ICWA Case Manager, awilliams@mescaleroapachetribe.com | P.O. Box 228, Mescalero, NM 88340 | (575) 464-4334 | (575) 464-4331
Ohkay Owingeh, New Mexico | Rochelle Thompson, ICWA Manager, rochelle.thompson@ohkay.org | P.O. Box 1187, Ohkay Owingeh, NM 87566 | (575) 852-6108 | (505) 692-0333
Pueblo of Acoma, New Mexico | Manfred Failla, Child Welfare Specialist, MFailla@poamail.org | P.O. Box 354, Acoma, NM 87034 | (505) 552-5162 | (505) 552-0903
Pueblo of Cochiti, New Mexico | Tanya Devon Torres, ICWA Specialist, tanyatorres@pueblodecochiti.org | P.O. Box 70, Cochiti Pueblo, NM 87072 | (505) 465-3139 | (505) 465-3173
Pueblo of Isleta, New Mexico | Caroline Dailey and Jacqueline Yalch, Social Services Director and ICWA Coordinator, poi05001@isletapueblo.com | P.O. Box 1270, Isleta, NM 87022 | (505) 869-2772 | (505) 869-7575
Pueblo of Jemez, New Mexico | Annette Gachupin, Child Advocate, agachupin@jemezpueblo.us | P.O. Box 340, Jemez Pueblo, NM 87024 | (575) 834-7117 | (575) 834-7103
Pueblo of Laguna, New Mexico | Marsha Vallo, Social Service Program Manager, mvallo@pol-nsn.gov | Social Services Department, P.O. Box 194, Laguna, NM 87026 | (505) 552-6513 | (505) 552-6387
Pueblo of Nambe, New Mexico | Julie Bird, ICWA Manager, ICWA@nambepueblo.org | 15A NP 102 West, Santa Fe, NM 87506 | (505) 445-4446 | (505) 455-4449
Pueblo of Picuris, New Mexico | Deborah Shemayme, ICWA Director, icwa@picurispueblo.org | ICWA, P.O. Box 127, Penasco, NM 87553 | (575) 288-9047 | (575) 587-1003
Pueblo of Pojoaque, New Mexico | Stacie Waters, Foster Care At Risk Family Coordinator ICWA Worker, swaters@pojoaque.org | 58 Cities of Gold Rd., Ste. #4, Santa Fe, NM 87506 | (505) 455-0238 | (505) 455-0238
Pueblo of San Felipe, New Mexico | Darlene J. Valencia, Family Services Director/ICWA Representative, dvalencia@sfpueblo.com | P.O. Box 4339, San Felipe Pueblo, NM 87001 | (505) 771-9900 | (505) 771-9978
Pueblo of San Ildefonso, New Mexico | Darren Stand, Tribal Administrator, dbstand@sanipueblo.org | 02 Tunyo Po, Santa Fe, NM 87506 | (505) 455-2273 | (505) 455-7351
Pueblo of Sandia, New Mexico | Bree Kerr, Tribal Court Administrator, akerr@sandiapueblo.nsn.us | 481 Sandia Loop, Bernalillo, NM 87004 | (505) 771-5005 | (505) 867-7099
Pueblo of Santa Ana, New Mexico | Edward Ackron, Social Services Director, edward.Ackron@santaana-nsn.gov | 02 Dove Road, Santa Ana Pueblo, NM 87004 | (505) 771-6765 | (505) 771-6537
Pueblo of Santa Clara, New Mexico | Dennis Silva, Director of Social Services, dsilva@santaclarapueblo.org | P.O. Box 580, Espanola, NM 87532 | (505) 753-0419 | (505) 753-0420
Pueblo of Taos, New Mexico | Ezra Bayles, Director, ebayles@taospueblo.com | P.O. Box 1846, Taos, NM 87571 | (575) 758-7824 | (575) 758-3346
Pueblo of Tesuque, New Mexico | Donna Quintana, ICWA Coordinator, donna.quintana@pueblooftesuque.org | Box 360T, Route 42, Santa Fe, NM 87506 | (505) 469-0173 | (505) 820-7780
Pueblo of Zia, New Mexico | Wiyanna Chavez, Social Services Director, wiyanna.chavez@ziapueblo.org | 135 Capital Square Drive, Zia Pueblo, NM 87053 | (505) 401-8142 | (505) 867-3308
Ramah Navajo Chapter of the Navajo Nation | Loretta Martinez, Social Service Director, lorettamrtnz@yahoo.com | Ramah Navajo School Board Inc.—Ramah Navajo Social Service Program, P.O. Box 250, Pinehill, NM 87357 | (505) 775-3221 | (505) 775-3520
Southern Ute Indian Tribe of the Southern Ute Reservation, Colorado | Julianne Begay, Social Services Attorney, jbegay@southemute-nsn.gov | P.O. Box 737, Ignacio, CO 81137 | (970) 563-0100 | (970) 563-4854
Ute Mountain Ute Tribe | Tywana Billie Lopez, UMU Social Services Director, tbillie@utemountain.org | P.O. Box 309, Towaoc, CO 81334 | (970) 564-5307 |
Ysleta del Sur Pueblo | Leah Lopez, Supervisor, llopez@ydsp-nsn.gov | 9314 Juanchido Ln., El Paso, TX 79907 | (915) 860-6170 | (915) 242-6556
Zuni Tribe of the Zuni Reservation, New Mexico | Ron Reid, Social Services Director, ron.reid@ashiwi.org | P.O. Box 339, Zuni, NM 87327 | (505) 782-7166 | (505) 782-7221

12. Western Region

Western Regional Director, 2600 North Central Avenue, Phoenix, AZ 85004; Phone: (602) 379-6600; Fax: (602) 379-4413.

Tribe | ICWA POC | Mailing address | Telephone No. | Fax No.
Ak-Chin Indian Community | Dorissa Garcia, Enrollment Coordinator, dgarcia@ak-chin.nsn.us | 42507 West Peters & Nall Road, Maricopa, AZ 85138 | (520) 568-1074 | (520) 568-1079
Chemehuevi Indian Tribe of the Chemehuevi Reservation, California | Dawn McElwain, ICWA Director, icwa@cit-nsn.gov | P.O. Box 1976, Havasu Lake, CA 92363 | (760) 858-5426 | (760) 858-5400
Cocopah Tribe of Arizona | Rafael D. Morales, Jr., ICWA Worker, moralesr@cocopah.com | 14515 South Veterans Dr., Somerton, AZ 85350 | (928) 627-3729 | (928) 627-3316
Colorado River Indian Tribes of the Colorado River Indian Reservation, Arizona and California | Rebecca Loudbear, Attorney General, rloudbear@critdoj.com | 26600 Mohave Road, Parker, AZ 85344 | (928) 669-1271 | (928) 669-5675
Confederated Tribes of the Goshute Reservation, Nevada and Utah | Jeanine Hooper, Social Services/ICWA Director, jeanine.hooper@ctgr.us | HC61 Box 6104, Ibapah, UT 84034 | (833) 228-6509 | (435) 234-1219
Duckwater Shoshone Tribe of the Duckwater Reservation, Nevada | Debra O'Neil, Social Services Director, debbie.oneil@ihs.gov | P.O. Box 140087, Duckwater, NV 89314 | (775) 863-0222 | (775) 863-0142
Ely Shoshone Tribe of Nevada | Georgia Valdez, Social Services Worker, dorda123@yahoo.com | 250B Heritage Drive, Ely, NV 89301 | (775) 289-4133 | (775) 289-3237
Fort McDermitt Paiute and Shoshone Tribes of the Fort McDermitt Indian Reservation, Nevada and Oregon | Elena Dave, ICWA Advocate, alenadave83@gmail.com | P.O. Box 68, McDermitt, NV 89421 | (775) 532-8263 | (775) 532-8060
Fort McDowell Yavapai Nation, Arizona | ICWA Coordinator/CPS Worker, ICWA Coordinator/CPS Worker Wassaja Family Services | P.O. Box 17779, Fountain Hills, AZ 85269 | (480) 789-7990 | (480) 837-4809
Fort Mojave Indian Tribe of Arizona, California & Nevada | Melvin Lewis Sr., Social Services Department Director, ssdir@ftmojave.com | 500 Merriman Avenue, Needles, CA 92363 | (928) 346-1550 | (928) 346-1552
Gila River Indian Community of the Gila River Indian Reservation, Arizona | Antoinette Enos, ICWA Case Manager, antoinette.enos@gric.nsn.gov | P.O. Box 427, Sacaton, AZ 85147 | (520) 562-3396 | (520) 562-3633
Havasupai Tribe of the Havasupai Reservation, Arizona | Rita Uqualla, ICWA Coordinator, ruqualla@yahoo.com | P.O. Box 10, Supai, AZ 86435 | (928) 433-8153 | (928) 433-8119
Hopi Tribe of Arizona | Lorene Vicente, ICWA Coordinator, LVicente@hopi.nsn.us | P.O. Box 123, Kykotsmovi, AZ 86039 | (928) 734-3392 | (928) 734-1158
Hualapai Indian Tribe of the Hualapai Indian Reservation, Arizona | Idella Keluche, ICWA Worker, ikeluche@hualapai-nsn.gov | P.O. Box 480, Peach Springs, AZ 86434 | (928) 769-2269/2383/2384/2397 | (928) 769-2659
Kaibab Band of Paiute Indians of the Kaibab Indian Reservation, Arizona | Jennie K. Kalauli, Social Services Director, ikeluche@hualapai-nsn.gov | HC 65 Box 2, Fredonia, AZ 86022 | (928) 643-8320 | (888) 822-3777
Las Vegas Tribe of Paiute Indians of the Las Vegas Indian Colony, Nevada | Travis Parashonts, Director of LVPT HHS | 1257 Paiute Circle, Las Vegas, NV 89106 | (702) 382-0784 | (702) 384-5272
Lovelock Paiute Tribe of the Lovelock Indian Colony, Nevada | Maribel Morales, ICWA Case Worker, icwa@lovelocktribe.com | P.O. Box 878, Lovelock, NV 89419 | (775) 273-7861 | (775) 273-3802
Moapa Band of Paiute Indians of the Moapa River Indian Reservation, Nevada | Laura Watters-Parry, Chairman, chair.mbop@moapabandofpaiutes.org | P.O. Box 304, Moapa, NV 89025 | (702) 865-2787 | (702) 864-2875
Paiute Indian Tribe of Utah (Cedar Band of Paiutes, Kanosh Band of Paiutes, Koosharem Band of Paiutes, Indian Peaks Band of Paiutes, and Shivwits Band of Paiutes) | Tracie Lund, Family Services Manager, tlund@fourpointshealth.org | 440 North Paiute Drive, Cedar City, UT 84721 | (435) 586-1112 | (435) 238-4262
Paiute-Shoshone Tribe of the Fallon Reservation and Colony, Nevada | Jennifer Pishion, ICWA Representative, yfsmanager@fpst.org | 1007 Rio Vista Drive, Fallon, NV 89406 | (775) 423-1215 | (775) 423-8960
Pascua Yaqui Tribe of Arizona | Tamara Walters, Assistant Attorney General, tamara.walters@pascuayaqui-nsn.gov | Office of the Attorney General, 7777 S Camino Huivism—Bldg. C, Tucson, AZ 85757 | (520) 883-5108 | (520) 883-5084
Pyramid Lake Paiute Tribe of the Pyramid Lake Reservation, Nevada | Christine McKamey, Social Services Director, cmckamey@plpt-nsn.us | P.O. Box 256, Nixon, NV 89424 | (775) 574-1047 | (775) 574-1052
Quechan Tribe of the Fort Yuma Indian Reservation, California & Arizona | Cody I. Hartt, ICWA Specialist, icwaspecialist@quechantribe.com | P.O. Box 1899, Yuma, AZ 85366 | (760) 572-0201 | (760) 572-2099
Reno-Sparks Indian Colony, Nevada | Carrie Brown, Human Services Manager, cbrown@rsic.org | 405 Golden Lane, Reno, NV 89502 | (775) 329-5071 | (775) 785-8758
Salt River Pima-Maricopa Indian Community of the Salt River Reservation, Arizona | Allison Miller, ICWA Manager, Allison.Miller@srpmic-nsn.gov | SRPMIC Social Services/ICWA Unit, 10,005 East Osborn Road, Scottsdale, AZ 85256 | (480) 362-7533 | (480) 362-5574
San Carlos Apache Tribe of the San Carlos Reservation, Arizona | Aaron Begay, ICWA Coordinator, nantaan@tss.scat-nsn.gov | P.O. Box 0, San Carlos, AZ 85550 | (928) 475-2313 | (928) 475-2342
San Juan Southern Paiute Tribe of Arizona | Mary Lou Boone, Enrollment Officer, m.boone@sanjuanpaiute-nsn.gov | P.O. Box 2950, Tuba City, AZ 86045 | (928) 212-9794 | (928) 233-8948
Shoshone-Paiute Tribes of the Duck Valley Reservation, Nevada | Roberta Hanchor, Social Worker, hanchor.roberta@shopai.org | P.O. Box 219, Owyhee, NV 89832 | (775) 757-2921 | (775) 757-2910
Skull Valley Band of Goshute Indians of Utah | Candace Bear, Chairperson | 407 Skull Valley Road, Skull Valley, UT 84029 | (435) 830-4526 |
Summit Lake Paiute Tribe of Nevada | Randi Lone Eagle, Chairwoman, randi.loneeagle@summitlaketribe.org | 1001 Rock Boulevard, Sparks, NV 89431 | (775) 827-9670 | (775) 827-9678
Te-Moak Tribe of Western Shoshone Indians of Nevada (Four constituent bands: Battle Mountain Band; Elko Band; South Fork Band; and, Wells Band) | Battle Mountain Band, Tammy Carrera, Social Services Director, bmbssd2018@outlook.com | 37 Mountain View Drive, Battle Mountain, NV 89820 | (775) 635-2004 | (775) 635-8528
| South Fork Band, Amanda Gettings, Tribal Social Worker/ICWA Coordinator, sftribalservices@gmail.com | 21 Lee, B-13, Spring Creek, NV 89815 | (775) 744-4273 | (775) 744-4523
| Elko Band, Marlene Dick, Social Worker, ssworker@elkoband.org | 1745 Silver Eagle Drive, Elko, NV 89801 | (775) 738-9310 | (775) 778-3397
| Wells Band, Heather N. Martinez, Social Services Director, wellsbandssicwa@gmail.com | P.O. Box 809, Wells, NV 89835 | (775) 345-3045 | (775) 752-2179
Tohono O'odham Nation of Arizona | Joshua Rees, Attorney General, joshua.rees@tonation-nsn.gov | P.O. Box 830, Sells, AZ 85634 | (520) 383-3410 | (520) 383-2689
Tonto Apache Tribe of Arizona | Lisa Belonga, Social Services Director, lbelonga@tontoapache.org | #30 Tonto Apache Reservation, Payson, AZ 85541 | (928) 474-5000 |
Ute Indian Tribe of the Uintah & Ouray Reservation, Utah | Ramalda Guzman, Assistant Director, ramadlag@utetribe.com | P.O. Box 190, Fort Duchesne, UT 84052 | (435) 722-5141 | (435) 722-5072
Walker River Paiute Tribe of the Walker River Reservation, Nevada | Elliott Aguilar, ICWA Specialist, eaguilar@wrpt.org | Social Services Department, P.O. Box 146, Schurz, NV 89427 | (775) 773-2058 | (775) 773-2096
Washoe Tribe of Nevada & California (Carson Colony, Dresslerville Colony, Woodfords Community, Stewart Community, & Washoe Ranches) | Stacy L. Stahl, Social Services Director, Stacy.Stahl@washoetribe.us | 919 U.S. Highway 395 North, Gardnerville, NV 89410 | (775) 265-8691 | (775) 265-4593
White Mountain Apache Tribe of the Fort Apache Reservation, Arizona | Cora Hinton, ICWA Representative/CPS Supervisor, chinton@wmat.us | P.O. Box 1870, Whiteriver, AZ 85941 | (928) 338-4164 | (928) 338-1469
Winnemucca Indian Colony of Nevada | Judy Rojo, Chairperson, admin.wic@winnemuccaindiancolony.org | 595 Humboldt Street, Reno, NV 89509 | (775) 329-5800 | (775) 329-5819
Yavapai-Apache Nation of the Camp Verde Indian Reservation, Arizona | Melissa Stevens, ICWA Coordinator, mstevens@yan-tribe.org | 2400 West Datsi Street, Camp Verde, AZ 86322 | (928) 649-7108 | (928) 567-6832
Yavapai-Prescott Indian Tribe | Tasha Salters, Family Support Supervisor, tsalters@ypit.com | 530 East Merritt, Prescott, AZ 86301 | (928) 515-7351 | (928) 541-7945
Yerington Paiute Tribe of the Yerington Colony and Campbell Ranch, Nevada | Nathaniel Landa, Human Services Director, nlanda@ypt-nsn.gov | 171 Campbell Lane, Yerington, NV 89447 | (775) 783-0200 | (775) 463-5919
Yomba Shoshone Tribe of the Yomba Reservation, Nevada | Belinda Hooper, Social Services Eligibility Worker, socialservices@yombatribe.org | HC 61 Box 6275, Austin, NV 89310 | (775) 964-6020 |

Bryan Newland,
Assistant Secretary—Indian Affairs.

[FR Doc. 2021-21464 Filed 10-1-21; 8:45 am]

BILLING CODE 4337-15-P